DEPARTMENT OF COMMERCE

National Oceanic and Atmospheric Administration

[Docket No. 030602141-7123-50; I.D.051906D]

RIN 0648-ZB55

Availability of Grant Funds for Fiscal Year 2008

AGENCY: National Oceanic and Atmospheric Administration (NOAA), Department of Commerce (DOC).

ACTION: Notice.

SUMMARY: The National Oceanic and Atmospheric Administration publishes this notice to provide the general public with a consolidated source of program and application information related to its competitive grant and cooperative agreement (CA) award offerings for fiscal year (FY) 2008. This Omnibus notice is designed to replace the multiple Federal Register notices that traditionally advertised the availability of NOAA's discretionary funds for its various programs. It should be noted that additional program initiatives unanticipated at the time of the publication of this notice may be announced through subsequent Federal Register notices. All announcements will also be available through the Grants.gov Web site.

DATES: Proposals must be received by the date and time indicated under each program listing in the SUPPLEMENTARY INFORMATION section of this notice.

ADDRESSES: Proposals must be submitted to the addresses listed in the SUPPLEMENTARY INFORMATION section of this notice for each program. The Federal Register and Full Funding Opportunity (FFO) notices may be found on the Grants.gov Web site. The URL for Grants.gov is http://www.grants.gov.

FOR FURTHER INFORMATION CONTACT: Please contact the person listed within this notice as the information contact under each program.

SUPPLEMENTARY INFORMATION: Applicants must comply with all requirements contained in the FFO announcements for each of the programs listed in this omnibus notice. These FFOs are available at http://www.grants.gov.

The list of entries below describe the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

NOAA Project Competitions

This omnibus notice describes funding opportunities for the following NOAA discretionary grant programs:

National Marine Fisheries Service

1. Great Lakes Habitat Restoration Partnership Grant.

2. Marine Fisheries Initiative (MARFIN).

3. Protected Species Cooperative Conservation.

4. Cooperative Research Program.

5. General Coral Reef Conservation.

6. FY2008 Community-based Marine Debris Prevention and Removal Project Grants.

7. Projects to Improve or Amend Coral Reef Fishery Management Plans.

8. FY2008 Community-based Habitat Restoration Project Grants.

9. FY2008 Open Rivers Initiative.

10. Bay Watershed Education & Training Program.

11. 2008 Monkfish Research Set-Aside Program.

12. 2008/2009 Atlantic Herring Research Set-Aside (RSA) Program.

13. John H. Prescott Marine Mammal Rescue Assistance Grant Program.

14. Saltonstall-Kennedy Grant Program.

National Ocean Service

1. CRCP-State and Territory Coral Reef Management Grants.

2. National Estuarine Research Reserve Land Acquisition and Construction Program FY08.

3. 2008 CRCP Coral Reef Ecosystem Monitoring.

4. National Estuarine Research Reserve Graduate Research Fellowship Program FY08.

5. FY08 California Bay Watershed Education and Training Program.

6. Bay Watershed Education and Training (B-WET) Program, Hawaii.

7. CSCOR FY08 Regional Ecosystem Prediction Program.

8. Dr. Nancy Foster Scholarship Program.

9. FY 2008 Implementation of Regional Integrated Ocean Observing Systems.

10. FY 2008 Integrated Ocean Observing System Regional Association Support.

11. FY 2008 Oceans and Human Health Initiative, External Grants Program.

12. International Coral.

National Environmental Satellite Data and Information Service

1. Research in Primary Vicarious Calibration of Ocean Color Satellite Sensors.

2. Research in Satellite Data Assimilation for Numerical Weather, Climate, and Environmental Forecast Systems.

National Weather Service

1. Collaborative Science, Technology, and Applied Research (CSTAR) Program.

Oceans and Atmospheric Research

1. Climate Program Office for FY 2008.

Office of the Under Secretary (USEC)

1. Environmental Literacy Grants for Spherical Display Systems for Earth System Science-Installations and Content Development.

NOAA Mission Goals

The mission of the agency is to understand and predict changes in the Earth's environment and conserve and manage coastal and marine resources to meet our Nation's economic, social, and environmental needs. Below is a listing of the program solicitations that generally fall under one or more areas of NOAA's strategic plan, i.e., mission goals. It is imperative that potential applicants tie their proposals to one of the mission goals. Program solicitations are provided from each of the five operating units within NOAA.

NOAA Project Competitions Listed by NOAA Mission Goals

I. Protect, Restore and Manage the Use of Coastal and Ocean Resources Through Ecosystem-Based Management

Summary Description: Coastal areas are among the most developed in the Nation. More than half the population lives on less than one-fifth of the land in the contiguous United States. Furthermore, employment in near shore areas is growing three times faster than population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world.

Funded proposals should help achieve the following outcomes:

A. Healthy and productive coastal and marine ecosystems that benefit society; and

B. A well-informed public that acts as a steward of coastal and marine ecosystems

Program Names:

1. Great Lakes Habitat Restoration Partnership Grant.

2. Marine Fisheries Initiative (MARFIN).

3. Protected Species Cooperative Conservation.

4. Cooperative Research Program.

5. General Coral Reef Conservation.

6. FY2008 Community-based Marine Debris Prevention and Removal Project Grants.

7. Projects to Improve or Amend Coral Reef Fishery Management Plans.

8. FY2008 Community-based Habitat Restoration Project Grants.

9. FY2008 Open Rivers Initiative.

10. Bay Watershed Education & Training Program.

11. CRCP-State and Territory Coral Reef Management Grants.

12. National Estuarine Research Reserve Land Acquisition and Construction Program FY08.

13. 2008 CRCP Coral Reef Ecosystem Monitoring.

14. National Estuarine Research Reserve Graduate Research Fellowship Program FY08.

15. FY08 California Bay Watershed Education and Training Program.

16. 2008 Monkfish Research Set-Aside Program.

17. 2008/2009 Atlantic Herring Research Set-Aside (RSA) Program.

18. Bay Watershed Education and Training (B-WET) Program, Hawaii.

19. CSCOR FY08 Regional Ecosystem Prediction Program.

20. Research in Primary Vicarious Calibration of Ocean Color Satellite Sensors.

21. Research in Satellite Data Assimilation for Numerical Weather, Climate, and Environmental Forecast Systems.

22. Collaborative Science, Technology, and Applied Research (CSTAR) Program.

23. FY 2008 Oceans and Human Health Initiative, External Grants Program.

24. International Coral.

25. John H. Prescott Marine Mammal Rescue Assistance Grant Program.

26. Saltonstall-Kennedy Grant Program.

II. Understand Climate Variability and Change To Enhance Society's Ability To Plan and Respond

Summary Description: Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy—property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

A. A predictive understanding of the global climate system on time scales of weeks to decades with quantified uncertainties sufficient for making informed and reasoned decisions; and

B. Climate-sensitive sectors and the climate-literate public effectively incorporating NOAA's climate products into their plans and decisions.

Program Names:

1. Climate Program Office for FY 2008.

III. Serve Society's Needs for Weather and Water Information

Summary Description: Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and non-governmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

A. Reduced loss of life, injury, and damage to the economy;

B. Better, quicker, and more valuable weather and water information to support improved decisions; and

C. Increased customer satisfaction with weather and water information and services.

Program Names:

1. Collaborative Science, Technology, and Applied Research (CSTAR) Program

2. FY 2008 Implementation of Regional Integrated Ocean Observing Systems

3. FY 2008 Integrated Ocean Observing System Regional Association Support

IV. Support the Nation's Commerce With Information for Safe, Efficient, and Environmentally Sound Transportation

Summary Description: Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather-related air-traffic delays. Improved surface weather forecasts and specific user warnings would reduce the 7,000 weather related fatalities and 800,000 injuries that occur annually from crashes on roads and highways. The injuries, loss of life, and property damage from weather-related crashes cost an average of $42 billion annually.

We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

A. Safe, secure, efficient, and seamless movement of goods and people in the U.S. transportation system; and

B. Environmentally sound development and use of the U.S. transportation system.

Program Names:

None.

V. Provide Critical Support for NOAA's Mission

Summary Description: Strong, effective, and efficient support activities are necessary for us to achieve our Mission Goals. Our facilities, ships, aircraft, environmental satellites, data-processing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies.

NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology.

Leadership development and program support are essential for achieving our Mission Goals. We must also commit to organizational excellence through management and leadership across a “corporate” NOAA. We must continue our commitment to valuing NOAA's diverse workforce, including effective workforce planning strategies designed to attract, retain and develop competencies at all levels of our workforce. Through the use of business process re-engineering, we will strive for state-of-the-art, value-added financial and administrative processes. NOAA will ensure state-of-the-art and secure information technology and systems. By developing long-range, comprehensive facility planning processes, NOAA will be able to ensure right-sized, cost-effective, and safe facilities.

Funded proposals should help achieve the following outcomes:

A. A dynamic workforce with competencies that support NOAA's mission today and in the future.

Program Names:

1. Dr. Nancy Foster Scholarship Program.

2. Environmental Literacy Grants for Spherical Display Systems for Earth System Science—Installations and Content Development.

I. Electronic Access

The full funding announcement for each program is available via the Grants.gov Web site: http://www.grants.gov. These announcements will also be available by contacting the program official identified below. You will be able to access, download and submit electronic grant applications for NOAA Programs in this announcement at http://www.grants.gov. The closing dates will be the same as for the paper submissions noted in this announcement. NOAA strongly recommends that you do not wait until the application deadline date to begin the application process through Grants.gov. Getting started with Grants.gov is easy! Go to http://www.grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1 Find Grant Opportunity for Which You Would Like To Apply

Start your search for Federal government-wide grant opportunities and register to receive automatic e-mail notifications of new grant opportunities or any modifications to grant opportunities as they are posted to the site by clicking the Find Grant Opportunities tab at the top of the page.

Get Started Step 2 Register With Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3 Register With the Credential Provider

You must register with a Credential Provider to receive a username and password. This will be required to securely submit your grant application.

Get Started Step 4 Register With Grants.gov

The final step in the Get Started process is to register with Grants.gov. This will be required to submit grant applications on behalf of your organization. After you have completed the registration process, you will receive e-mail notification confirming that you are able to submit applications through Grants.gov.

Get Started Step 5 Log on to Grants.gov

After you have registered with Grants.gov, you can log on to Grants.gov to verify if you have registered successfully, to check application status, and to update information in your applicant profile, such as your name, telephone number, e-mail address, and title. In the future, you will have the ability to determine if you are authorized to submit applications through Grants.gov on behalf of your organization.

Electronic Application File Format and Naming Conventions

After the initial grant application package has been submitted to NOAA (e.g., via Grants.gov), requests for additional or modified forms may be requested by NOAA. Applicants should resubmit forms in Portable Document File Format (PDF) and follow the following file naming convention to name resubmitted forms. For example: 98042_SF-424_mmddyy_v2.pdf.

(1) 98042 = Proposal # (provided to applicant by Grants.gov & NOAA).

(2) SF-424 = Form Number.

(3) mmddyy = Date.

(4) v2 = Version Number.

To learn how to convert documents to PDF go to: http://www.grants.gov/assets/PDFConversion.pdf.

II. Evaluation Criteria and Selection Procedures

NOAA standardized the evaluation and selection process for its competitive assistance programs. All proposals submitted in response to this notice shall be evaluated and selected in accordance with the following procedures. There are two sets of evaluation criteria and selection procedures, one for project proposals, and the other for fellowship, scholarship, and internship programs. These evaluation criteria and selection procedures apply to all of the programs included below.

Proposal Review and Selection Process for Projects

Some programs may include a pre-application process which provides an initial review and feedback to the applicants that have responded to a call for letters of intent or pre-proposals; however, not all programs will include such a process. If a pre-application process is used by a program, it shall be described in the Summary Description and the deadline shall be provided in the Application Deadline section. Upon receipt of a full application by NOAA, an initial administrative review is conducted to determine compliance with requirements and completeness of the application. A merit review is conducted to individually evaluate, score, and rank applications using the evaluation criteria. A second merit review may be conducted on the applicants that meet the program's threshold (based on scores from the first merit review) to make selections using the selection factors provided below. Merit review is conducted by mail reviewers and/or peer panel reviewers. Each reviewer will individually evaluate and rank proposals using the evaluation criteria provided below. A minimum of three merit reviewers per proposal is required. No consensus advice will be given. The merit reviewer's ratings are used to produce a rank order of the proposals. The NOAA Program Officer may review the ranking of the proposals and make recommendations to the Selecting Official based on the mail and/or panel review(s) and selection factors listed below. The Selecting Official selects proposals after considering the mail and/or peer panel review(s) and recommendations of the Program Officer. In making the final selections, the Selecting Official will award in rank order unless the proposal is justified to be selected out of rank order based upon one or more of the selection factors below. The Program Officer and/or Selecting Official may negotiate the funding level of the proposal. The Selecting Official makes final recommendations for award to the Grants Officer who is authorized to obligate the funds.

Evaluation Criteria for Projects

1. Importance and/or relevance and applicability of proposed project to the program goals: This ascertains whether there is intrinsic value in the proposed work and/or relevance to NOAA, federal, regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Selection Factors for Projects

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other federal agencies.

4. Program priorities and policy factors.

5. Applicant's prior award performance.

6. Partnerships and/or Participation of targeted groups.

7. Adequacy of information necessary for NOAA staff to make a NEPA determination and draft necessary documentation before recommendations for funding are made to the Grants Officer. Proposal Review and Selection Process for NOAA Fellowship.

Scholarship and Internship Programs

Some programs may include a pre-application process which provides an initial review and feedback to the applicants that have responded to a call for letters of intent or pre-proposals; however, not all programs will include such a process. If a pre-application process is used by a program, it shall be described in the Summary Description and the deadline shall be provided in the Application Deadline section. An initial administrative review of full applications is conducted to determine compliance with requirements and completeness of applications. A merit review is conducted to individually evaluate, score, and rank applications using the evaluation criteria. A second merit review may be conducted on the applicants that meet the program's threshold (based on scores from the first merit review) to make selections using the selection factors provided below. No consensus advice will be given. The Program Officer may conduct a review of the rank order and make recommendations to the Selecting Official based on the panel ratings and the selection factors listed below. The Selecting Official considers merit reviews and recommendations. The Selecting Official will award in rank order unless the proposal is justified to be selected out of rank order based upon one or more of the selection factors below. The Selecting Official makes final recommendations for award to the Grants Officer who is authorized to obligate the funds.

Evaluation Criteria for Fellowship/Scholarships/Internships

1. Academic record and statement of career goals and objectives of student.

2. Quality of project and applicability to program priorities.

3. Recommendations and/or endorsements of student.

4. Additional relevant experience related to diversity of education; extra-curricular activities; honors and awards; interpersonal, written, and oral communications skills.

5. Financial need of student.

Selection Factors for Fellowship/Scholarships/Internships

1. Balance/Distribution of funds:

a. Across academic disciplines.

b. By types of institutions.

c. Geographically.

2. Availability of funds.

3. Program-specific objectives.

4. Degree in scientific area and type of degree sought.

III. NOAA Project Competitions

National Marine Fisheries Service (NMFS)

(1) Great Lakes Habitat Restoration Partnership Grant

Summary Description: The NOAA Great Lakes Habitat Restoration Program invites applications requesting funding to establish one or more regional habitat restoration partnership(s) for 1 to 3 years. The partnership(s) is expected to catalyze the implementation of habitat restoration projects that will benefit coastal resources through improved Great Lakes habitat quality.

The centerpiece of the program will be one or more restoration projects in an Area of Concern that: are based on strong science and data availability; are ecosystem focused; and, involve significant problems and lake-wide improvements. Project areas should include locations where: (1) Maximum use can be made of on-going restoration efforts and partnerships, (2) availability of matching funds are met, (3) the problem is significant to the Great Lakes region, NOAA's mission and established priorities, and, (4) there is a scientific merit in restoration. NOAA envisions working jointly on such a partnership(s) through its Great Lakes Habitat Restoration Program (GLHRP) to fund and administer projects that support community-identified priorities such as: (1) Restoring and enhancing critical, nearshore areas, tributaries and connecting channels; (2) remediating basin-wide sources of stress; (3) protecting healthy functioning areas; and, (4) monitoring ecosystem health. This document describes the types of partnership(s) that NOAA envisions establishing, portrays the qualities that NOAA has found to be ideal in a partnership, and describes criteria under which applications will be evaluated for funding consideration. The partnership application(s) selected through this announcement must be in support of ongoing efforts in an Area of Concern (AOC) and will be implemented through a cooperative agreement. The selection process is anticipated to be highly competitive.

Funding of up to $1 million may be available to establish one or more habitat restoration partnership(s) in 2008, and annual funding is anticipated to maintain them for 1 to 3 years duration. Definitions of Terms: (1) The Great Lakes region will be defined by the Great Lakes Water Quality Agreement: Article 1.(h) “Great Lakes System: means all of the streams, rivers, lakes and other bodies of water that are within the drainage basin on the St. Lawrence River at or upstream from the point at which this river becomes the international boundary between Canada and the United States.” (2) Areas of Concern are severely degraded geographic areas within the Great Lakes Basin. They are defined by the U.S.-Canada Great Lakes Water Quality Agreement (Annex 2 of the 1987 Protocol) as “geographic areas that fail to meet the general specific objectives of the agreement where such failure has caused or is likely to cause impairment of beneficial use of the area's ability to support aquatic life.”

Funding Availability: This solicitation announces that funding of up to $1 million is expected to be available for establishing a habitat restoration partnership(s) with the NOAA Great Lakes Habitat Restoration Program in FY 2008. Actual funding availability for this program is contingent upon Fiscal Year 2008 Congressional appropriations. Funding for subsequent years will depend on the ability of partners to successfully perform partnership activities as stated in their applications. NOAA anticipates that the typical partnership(s) award will range from $250,000 to $1,000,000 for the initial year of a regional habitat restoration partnership(s) established in FY 2008. Applicants can request increases to continue scaling up partnership activities in subsequent budget periods to a limit of $2,000,000 in FY 2009, and to $3,000,000 in FY 2010. As this is the first year of the Great Lakes Habitat Restoration Program, no prior award information can be provided for reference purposes.

Statutory Authority: The Secretary of Commerce is authorized under the Fish and Wildlife Coordination Act, 16 U.S.C. 661, as amended by the Reorganization Plan No. 4 of 1970, to provide grants or cooperative agreements for fisheries habitat restoration.

Catalog of Federal Domestic Assistance (CFDA) Number: 11.463, Habitat Conservation.

Application Deadline: Applications should be submitted via www.grants.gov, and must be received by grants.gov no later than 11:59 p.m. EST on August 31, 2007. No facsimile or electronic mail applications will be accepted.

Address for Submitting Proposals: If grants.gov cannot reasonably be used, applications must be postmarked, or provided to a delivery service and documented with a receipt, by August 31, 2007 and sent to: NOAA Restoration Center (F/HC3), Office of Habitat Conservation, National Marine Fisheries Service, 1315 East West Highway, Room 14726, Silver Spring, MD 20910. ATTN: GLHRP Partnership Applications.

Information Contacts: For further information contact Jenni Wallace (301) 713-0174 x191 or David Landsman at (301) 713-0174 x 151 or GLHRP.GLERL@NOAA.gov.

Eligibility: Eligible applicants are institutions of higher education, hospitals, other non-profits, commercial (for-profit) organizations, organizations under the jurisdiction of foreign governments, international organizations, state, local and Indian tribal governments whose applications propose to benefit Great Lakes coastal and open-lake habitats. Applications from federal agencies or employees of federal agencies will not be considered.

Cost Sharing Requirements: The overall initial focus of the GLHRP is to provide seed money to a regional partnership(s) that leverages funds and other contributions from a broad public and private sector to implement locally important habitat restoration projects to benefit Great Lakes coastal and open-lake resources within an Area of Concern (AOC).

Additionally, the partnership(s) that propose to provide cash match toward project implementation funds at the local level (before local, project-specific contributions are included) will be likely to score higher in the evaluation of project costs. While this is not a requirement, the GLHRP strongly advises applicants to leverage as much investment as possible.

Intergovernmental Review: Applications under this program from state and local governments are subject to the provisions of Executive Order 12372, “Intergovernmental Review of Federal Programs.”

(2) Marine Fisheries Initiative (MARFIN)

Summary Description: The National Marine Fisheries Service (NMFS), Southeast Region, is seeking proposals under the Marine Fisheries Initiative Program (MARFIN), for research and development projects that optimize the use of fisheries in the Gulf of Mexico and off the South Atlantic states of North Carolina, South Carolina, Georgia, and Florida involving the U.S. fishing industry (recreational and commercial), including fishery biology, resource assessment, socioeconomic assessment, management and conservation, selected harvesting methods, and fish handling and processing.

Funding Availability: Approximately $2.0 million may be available in fiscal year (FY) 2008 for projects. This amount includes possible in-house projects. Actual funding availability for this program is contingent upon Fiscal Year 2008 Congressional appropriations. The NMFS Southeast Regional Office anticipates awarding projects that will range from $25,000 to $300,000. The average award is $150,000.

Statutory Authority: 15 U.S.C. 713c-3(d).

Catalog of Federal Domestic Assistance (CFDA) Number: 11.433, Marine Fisheries Initiative.

Application Deadline: Applications must be received by 5:00 p.m., eastern time on August 1, 2007. For applications submitted through Grants.gov, a date and time receipt indication is included and will be the basis of determining timeliness. Hard copy applications will be date and time stamped when they are received. Facsimile transmission and electronic mail submission of applications will not be accepted.

Address for Submitting Proposals: Applications should be submitted electronically through www.grants.gov. Only if an applicant does not have Internet access, hard copies may be sent to the National Marine Fisheries Service, State/Federal Liaison Branch, 263 13th Avenue South, St. Petersburg, FL 33701.

Information Contacts: Ellie F. Roche, Chief, State/Federal Liaison Branch at (727) 824-5324.

Eligibility: Eligible applicants include Institutions of higher education, other nonprofits, commercial organizations, state, local and Indian tribal governments. Federal agencies or institutions are not eligible. Foreign governments, organizations under the jurisdiction of foreign governments, and international organizations are excluded for purposes of this solicitation since the objective of the MARFIN program is to optimize research and development benefits from U.S. marine fishery resources.

Cost Sharing Requirements: Cost sharing is not required.

Intergovernmental Review: Applications under this program are subject to Executive Order 12372, “Intergovernmental Review of Federal Programs.”

(3) Protected Species Cooperative Conservation

Summary Description: The National Marine Fisheries Service (NMFS) is soliciting applications to support the conservation of threatened and endangered species, recently de-listed species, and candidate species under the jurisdiction of the NMFS or under the joint jurisdiction of the NMFS and the U.S. Fish and Wildlife Service (e.g. sea turtles). Any state that has entered into an agreement with the NMFS and maintains an adequate and active program for the conservation of endangered and threatened species pursuant to section 6(c) of the Endangered Species Act of 1973 (ESA) is eligible to apply.

These financial assistance awards can be used to support management, monitoring, research, and outreach activities that provide direct conservation benefits to listed species, recently de-listed species, or candidate species that reside within that state. Projects involving North Atlantic right whales will not be considered for funding under this grant program; such projects may be submitted under the North Atlantic Right Whale Research Program of the NMFS Northeast Regional Office. Projects focusing on listed Pacific salmon will also not be considered under this grant program; State conservation efforts for these species are funded through the Pacific Salmon Coastal Recovery Fund. The program priorities for this opportunity support NOAA's mission support goal of “Ecosystems”.

Funding Availability: This solicitation announces that a minimum of $250K and a maximum of $800K may be available for distribution under the FY 2008 PSCC program, in award amounts to be determined by the proposals and available funds. Actual funding availability for this program is contingent upon Fiscal Year 2008 Congressional appropriations. Funds have not yet been appropriated for this program, and there is no guarantee that sufficient funds will be available to make awards for all qualified projects. Publication of this notice does not oblige NOAA to award any specific grant proposal or to obligate any available funds. Award periods may extend up to 3 years with annual funding contingent on the availability of Federal appropriations and satisfactory performance by the grant recipient. There are no restrictions on maximum or minimum award amounts within the available funding.

Statutory Authority: The NMFS is authorized to provide Federal assistance to eligible states for the purpose of assisting the states in the development of programs for the conservation of listed, recently de-listed, and candidate species that reside within that state (16 U.S.C. 661; 1535).

Catalog of Federal Domestic Assistance (CFDA) Number: 11.472, Unallied Science Program.

Application Deadline: Proposals submitted through Grants.gov must be received by 5 p.m. Eastern Daylight Time on September 15, 2007; proposals submitted by mail must be postmarked by September 15, 2007.

Address for Submitting Proposals: Applications should be submitted electronically through the Grants.gov Web site at http://www.grants.gov. If online submission is not possible, hard copy applications may be submitted (by postal mail, commercial delivery, or hand delivery) to NOAA/NMFS/Office of Protected Resources, Attn: Lisa Manning, 1315 East-West Highway, SSMC3, Silver Spring, MD 20910.

Information Contacts: Lisa Manning at the NOAA/NMFS/Office of Protected Resources, Endangered Species Division, 1315 East-West Highway, Silver Spring, MD 20910, by phone at 301-713-1401, or by e-mail at Lisa.Manning@noaa.gov.

Eligibility: Eligible applicants are states that, through their respective state agencies, have entered into an agreement with the NMFS pursuant to section 6(c) of the ESA. The terms ‘state’ and ‘state agency’ are used as defined in section 3 of the ESA. Currently eligible state agencies are from the following states: Florida, Georgia, Hawaii, Maine, Maryland, Massachusetts, New Jersey, New York, North Carolina, Puerto Rico, South Carolina, and the U.S. Virgin Islands. Any state agency that enters into a section 6(c) agreement with the NMFS prior to the application deadline (September 15, 2007) is also eligible to apply. Proposals may address federally listed species that are included in the state's ESA section 6 agreement or any species that has become a “candidate” species by the grant application deadline.

Cost Sharing Requirements: In accordance with section 6(d) of the ESA, all proposals submitted must include a minimum non-Federal cost share of 25 percent of the total budget if the proposal involves a single state. If a proposal involves collaboration of two or more states, the minimum non-Federal cost share decreases to 10 percent of the total project costs.

Intergovernmental Review: Applications under this program are subject to Executive Order 12372, “Intergovernmental Review of Federal Programs.”

(4) Cooperative Research Program

Summary Description: The CRP program provides financial assistance for projects that seek to increase and improve the working relationship between researchers from the NMFS, state fishery agencies, universities, and fishermen in the Gulf of Mexico and off the South Atlantic states of North Carolina, South Carolina, Georgia, and Florida involving the U.S. fishing industry (recreational and commercial). The program is a means of involving commercial and recreational fishermen in the collection of fundamental fisheries information. Collection efforts support the development and evaluation of management and regulatory options.

Funding Availability: Approximately $2.0 million may be available in fiscal year (FY) 2008 for projects. Actual funding availability for this program is contingent upon Fiscal Year 2008 Congressional appropriations. The NMFS Southeast Regional Office estimates awarding eight projects that will range from $25,000 to $400,000. The average award is $150,000. Publication of this notice does not obligate NMFS to award any specific grant or cooperative agreement or any of the available funds.

Statutory Authority: Authority for the CRP is provided by the following: 15 U.S.C. 713c-3(d).

Catalog of Federal Domestic Assistance (CFDA) Number: 11.454, Unallied Management Projects.

Application Deadline: Applications must be received by 5 p.m., eastern time on August 31, 2007. For applications submitted through Grants.gov, a date and time receipt indication is included and will be the basis of determining timeliness. Hard copy applications will be date and time stamped when they are received. Facsimile transmission and electronic mail submission of applications will not be accepted.

Address for Submitting Proposals: Applications should be submitted through www.grants.gov. Only if an applicant does not have internet access, hard copies may be sent to: National Marine Fisheries Service, State/Federal Liaison Branch, 263 13th Avenue South, St. Petersburg, FL 33701.

Information Contacts: For questions regarding the application process, you may contact: Robert Sadler, State/Federal Liaison Branch, (727) 824-5324, or Robert.Sadler@noaa.gov.

Eligibility: Eligible applicants may be Institutions of higher education, nonprofits, commercial organizations, individuals, and state, local, and Indian tribal governments. Federal agencies or institutions are not eligible. Foreign governments, organizations under the jurisdiction of foreign governments, and international organizations are excluded for purposes of this solicitation since the objective of the CRP is to optimize research and development benefits from U.S. marine fishery resources. Applicants who are not commercial or recreational fishermen must have commercial or recreational fishermen participating in their project. There must be a written agreement with a fisherman describing the involvement in the project activity.

Cost Sharing Requirements: Cost-sharing is not required for this program.

Intergovernmental Review: Applications submitted by state and local governments are subject to the provisions of Executive Order 12372, Intergovernmental Review of Federal Programs. Any applicant submitting an application for funding is required to complete item 16 on SF-424 regarding clearance by the State Single Point of Contact (SPOC) established as a result of EO 12372. To find out about and comply with a States process under EO 12372, the names, addresses and phone numbers of participating SPOCs are listed in the Office of Management and Budget's home page at: http://www.whitehouse.gov/omb/grants/spoc.html.

(5) General Coral Reef Conservation

Summary Description: The NOAA Coral Reef Conservation Program/General Coral Reef Conservation Grants (GCRCGP) provides funding to institutions of higher education, non-profit organizations, commercial organizations, Freely Associated State government agencies, and local and Indian tribal governments to support coral reef conservation projects in the United States and the Freely Associated States in the Pacific, as authorized under the Coral Reef Conservation Act of 2000. Projects funded through the GCRCGP support on-the-ground efforts that: (1) Help preserve, sustain and restore the condition of coral reef ecosystems, (2) promote the wise management and sustainable use of coral reef resources, (3) increase public knowledge and awareness of coral reef ecosystems and issues regarding their conservation and (4) develop sound scientific information on the condition of coral reef ecosystems and the threats to such ecosystems. Projects should complement and fill gaps in state, territorial and commonwealth coral reef programs, emphasize community-based conservation, or address local action strategy priorities. Proposals selected for funding through this solicitation require a 1:1 match and will be implemented through a grant. Funding of up to $600,000 is expected to be available for GRCGP in FY 2008. These funds will be divided approximately equally among the U.S. Pacific and Atlantic to maintain geographic balance, as outlined in the Coral Reef Conservation Act of 2000. Awards will range from $15,000-$50,000.

Funding Availability: NOAA announces the availability of up to $600,000 of Federal assistance may be available in FY 2008 for the GCRCGP to support financial assistance awards for coral conservation activities. Actual funding availability for this program is contingent upon Fiscal Year 2008 Congressional appropriations. Proposals can be submitted for a minimum of $15,000 to a maximum of $50,000; NOAA will not accept proposals requesting over $50,000 of Federal funds.

There is no limit on the number of applications that can be submitted by the same applicant during the 2008 competitive grant cycle. However, multiple applications submitted by the same applicant must clearly identify different projects and must be successful in the competitive review process. The number of awards made as a result of this solicitation will depend on the number of eligible applications received, the amount of funds requested for each project, the merit and ranking of the proposals, and the amount of funds made available to the Program by Congress. In addition, funding will be divided between the U.S. Pacific and U.S. Atlantic to meet requirements for geographic distribution of funds, as described in the Coral Reef Conservation Act. Attempts will also be made to fund one or more projects in each jurisdiction, provided that the project addresses priorities outlined above, it is identified as having sufficient merit, and it meets all other requirements as stipulated in this solicitation. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.463, Habitat Conservation.

Application Deadline: Applications must be received no later than 11:59 PM EST on November 1, 2007.

Address for Submitting Proposals: Applications should be submitted through www.grants.gov. If applicants are unable to submit through www.grants.gov, an original paper copy of signed Federal financial assistance forms and the complete project narrative and budget narrative must be submitted by mail to: Andrew Bruckner, NOAA Coral Reef Conservation Program, NOAA Fisheries, Office of Habitat Conservation (F/HC), 1315 East West Highway, Silver Spring, MD 20910. ATTN: CRCGP Project Applications. Electronic copies of the project narrative and budget narrative are requested when submitting by mail (liz.fairey@noaa.gov), however e-mail applications submitted without a mailed hard copy with appropriate postal date stamp will not be accepted.

Information Contacts: Technical point of contact for NOAA Coral Reef Conservation Grant Program/General Grants is Andy Bruckner, 301-713-3459, extension 190 or e-mail at andy.bruckner@noaa.gov.

Eligibility: Institutions of higher education, non-profit organizations, commercial organizations, local and Indian tribal governments and Freely Associated State Government Agencies can apply for funding under the GCRCGP. U.S. federal, state, territory, and commonwealth governments and Regional Fishery Management Councils are not eligible under this category. NOAA employees are not allowed to help in the preparation of applications or write letters of support for any application. NOAA staff are available to provide information on programmatic goals and objectives, ongoing coral reef conservation programs, Regional funding priorities, and, along with other Federal Program Officers, can provide information on application procedures and completion of required forms. For activities that involve collaboration with current NOAA programs or staff, NOAA employees must provide a letter verifying that they are collaborating with the project. Federal employee travel and salaries are not allowable costs under this program.

Cost Sharing Requirements: As per section 6403(b)(1) of the Coral Reef Conservation Act of 2000, Federal funds for any coral conservation project funded under this Program may not exceed 50 percent of the total cost of the project. All GCRCGP projects submitted to this program require a 1:1 match obtained from non-Federal sources. Applicants must specify in their proposal the source of the match and provide letters of commitment to confirm stated match contributions. The match can include in-kind contributions and other non-cash support. Applicants are permitted to combine contributions from additional non-Federal partners in order to meet the 1:1 match expected, as long as such contributions are not being used to match any other funds. Federal funds may not be used as matching funds. The nature of the contribution (cash versus in-kind) and the amount of matching funds will be taken into consideration in the review process, with cash being the preferred method of contribution. However, applicants should note that cost sharing is an element considered in Evaluation Criterion d. Project Costs. Applicants may request a waiver from the 1:1 match pursuant to Section 6403(b)(2) of the Coral Reef Conservation Act. As per section 6403(b)(2) of the Coral Reef Conservation Act of 2000, the NOAA Administrator may waive all or part of the matching requirement if the Administrator determines that the project meets the following two requirements: (1) No reasonable means are available through which an applicant can meet the matching requirement; and (2) The probable benefit of such project outweighs the public interest in such matching requirement. In the case of a waiver request, the applicant must provide a detailed justification at the time the proposal is submitted explaining the need for the waiver including attempts to obtain sources of matching funds, how the benefit of the project outweighs the public interest in providing match, and any other extenuating circumstances preventing the availability of match. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Eligible applicants choosing to apply 48 U.S.C. 1469a(d) must include a letter requesting a waiver that demonstrates that their project meets the requirements of 48 U.S.C. 1469a(d).

Intergovernmental Review: Applications under this Program are subject to Executive Order 12372, Intergovernmental Review of Federal Programs. Any applicant submitting an application for funding is required to complete item 16 on SF-424 regarding clearance by the State Single Point of Contact (SPOC) established as a result of EO 12372. http://www.whitehouse.gov/omb/grants/spoc.html

(6) FY2008 Community-based Marine Debris Prevention and Removal Project Grants

Summary Description: The NOAA Marine Debris Program (MDP), authorized in the Marine Debris Reduction, Prevention, and Reduction Act (33 U.S.C. 1951 et seq.), provides funding to catalyze the implementation of locally driven, community-based marine debris prevention and removal projects that will benefit coastal habitat, waterways, and NOAA trust resources including diadromous fish. Projects funded through the MDP have strong on-the-ground habitat components involving the removal of marine debris and derelict gear that will provide educational and social benefits for people and their communities in addition to long-term ecological habitat improvements for NOAA trust resources. Through this solicitiation the MDP identifies potential marine debris prevention and removal projects, strengthens the development and implementation of habitat restoration through the removal of marine debris within communities, and fosters awareness of the effects of marine debris through the funding of outreach and education proposals to further the conservation of living marine resource habitats across a wide geographic area.

Funding Availability: This solicitation announces that funding of up to $2,000,000 is expected to be available for Community-based Marine Prevention and Removal Project Grants in FY 2008. Actual funding availability for this program is contingent upon Fiscal Year 2008 Congressional appropriations. The NOAA Restoration Center anticipates that typical project awards will range from $15,000 to $150,000; NOAA will not accept proposals for under $15,000 or proposals for over $250,000 under this solicitation.

Statutory Authority: The Administrator of the National Oceanic and Atmospheric Administration is authorized under the Marine Debris Reduction, Prevention, and Reduction Act (33 U.S.C. 1951 et seq.) to provide grants or cooperative agreements to identify, determine sources of, assess, reduce, and prevent marine debris and its adverse impacts on the marine environment and navigation safety. The Secretary of Commerce is also authorized under the Fish and Wildlife Coordination Act, 16 U.S.C. 661, as amended by the Reorganization Plan No. 4 of 1970, to provide grants or cooperative agreements for fisheries habitat restoration.

Catalog of Federal Domestic Assistance (CFDA) Number: 11.463, Habitat Conservation.

Application Deadline: Applications should be submitted via www.grants.gov, and must be received by grants.gov no later than 11:59 p.m. EDT on October 31, 2007. No facsimile or electronic mail applications will be accepted. Applications postmarked or provided to a delivery service after that time will not be considered for funding. Applications submitted via the U.S. Postal Service must have an official postmark; private metered postmarks are not acceptable. In any event, applications received later than 15 business days following the postmark closing date will not be accepted.

Address for Submitting Proposals: Applications should be submitted through Grants.gov. If grants.gov cannot reasonably be used, a hard copy application with the SF424 signed in blue ink must be postmarked, or provided to a delivery service and documented with a receipt, by October 31, 2007, and sent to: NOAA Restoration Center (F/HC3), Community-based Restoration Program, NOAA Fisheries, 1315 East West Highway, Rm. 14727, Silver Spring, MD 20910. ATTN: MDP Project Applications.

Information Contacts: For further information contact David Landsman at 301-713-0174 or by e-mail at David.Landsman@noaa.gov.

Eligibility: Eligible applicants are institutions of higher education, other non-profits, commercial (for profit) organizations, organizations under the jurisdiction of foreign governments, international organizations, and state, local and Indian tribal governments whose projects have the potential to benefit NOAA trust resources. Applications from federal agencies or employees of Federal agencies will not be considered. Federal agencies are strongly encouraged to work with states, non-governmental organizations, national service clubs or youth corps organizations and others that are eligible to apply. The Department of Commerce/National Oceanic and Atmospheric Administration (DOC/NOAA) is strongly committed to broadening the participation of historically black colleges and universities, Hispanic serving institutions, tribal colleges and universities, and institutions that work in under-served areas. The MDP encourages proposals involving any of the above institutions.

Cost Sharing Requirements: Cost-sharing is not required however it does affect a proposal's score (see criterion 4, Section V.A. of the Federal Funding Opportunity). Federal sources cannot be considered for matching funds, but can be described in the budget narrative to demonstrate additional leverage.

Intergovernmental Review: Applications submitted by state and local governments are subject to the provisions of Executive Order 12372, “Intergovernmental Review of Federal Programs.”

(7) Projects To Improve or Amend Coral Reef Fishery Management Plans

Summary Description: The NOAA Coral Reef Conservation Grant Program/Projects to Improve or Amend Coral Reef Fishery Management Plans (CRFMPGP) provides funding to the Regional Fishery Management Councils for projects to conserve and manage coral reef fisheries, as authorized under the Coral Reef Conservation Act of 2000. Projects funded through the CRFMPGP are for activities that (1) provide better scientific information on the status of coral reef fisheries resources, critical habitats of importance to coral reef fishes, and the impacts of fishing on these species and habitats; (2) identify new management approaches that protect coral reef biodiversity and ecosystem function through regulation of fishing and other extractive uses; and (3) incorporate conservation and sustainable management measures into existing or new Federal fishery management plans for coral reef species. Proposals selected for funding through this solicitation will be implemented through a Cooperative Agreement. The role of NOAA in the CRFMPGP is to help identify potential projects that reduce impacts of fishing on coral reef ecosystems, strengthen the development and implementation of the projects, and assist in coordination of these efforts with Federal, state, territory or commonwealth management authorities and various coral reef user groups.

Funding up to $1,050,000 is expected to be available for CRFMPGP Cooperative Agreements in FY 2008. These funds will be divided equally among the Atlantic and Pacific to maintain the geographic split required by the Act. The NOAA Coral Reef Conservation Program anticipates that awards will range from $175,000-$525,000.

Funding Availability: This solicitation announces that approximately $1,050,000 is expected to be available for cooperative agreements in support coral reef conservation activities for Projects to Improve or Amend Coral Reef Fishery Management Plans (CRFMPGP) in FY 2008. Actual funding availability for this program is contingent upon Fiscal Year 2008 Congressional appropriations. The NOAA Coral reef Conservation Program anticipates that typical project awards will range from about $175,000 to $525,000; NOAA will not accept proposals for over $525,000 under this solicitation. Equal funding will be provided to the Atlantic and Pacific, up to a maximum of $525,000 for activities in the Western Pacific, and a maximum of $525,000 for activities in the South Atlantic, the Gulf of Mexico, and the Caribbean. The exact amount of funds that may be awarded will be determined in pre-award negotiations between the applicant and NOAA representatives. Activities approved by NOAA will be awarded as new cooperative agreements through the NMFS Office of Habitat Conservation (HC). The number of awards made as a result of this solicitation will depend on the number of eligible applications received, the amount of funds requested for each project, the merit and ranking of the proposals, and the amount of funds made available to the Program by Congress. The funds have not yet been appropriated for this program, and there is no guarantee that sufficient funds will be available to make awards for all qualified projects. Publication of this notice does not oblige NOAA to award any specific project or to obligate any available funds.

Statutory Authority: Authority for the NOAA Coral Reef Conservation Grant Program is provided by Section 6403 (Coral Reef Conservation Program) of the Coral Reef Conservation Act of 2000 (16 U.S.C. 6401 et seq).

Catalog of Federal Domestic Assistance (CFDA) Number: 11.441, Regional Fishery Management Councils.

Application Deadline: Applications should be submitted via www.grants.gov and must be received by grants.gov no later than 11:59 p.m. EST on November 1, 2007.

Address For Submitting Proposals: Applications should be submitted through www.grants.gov. If applicants are unable to submit through www.grants.gov, an original paper copy of signed Federal financial assistance forms and the complete project narrative and budget narrative must be submitted by mail to: Andrew Bruckner, NOAA Coral Reef Conservation Program, NOAA Fisheries, Office of Habitat Conservation (F/HC), 1315 East West Highway, Silver Spring, MD 20910. ATTN: CRCGP Project Applications. Electronic copies of the project narrative and budget narrative are requested when submitting by e-mail (liz.fairey@noaa.gov), however e-mail applications submitted without a mailed hard copy with appropriate postal date stamp will not be accepted.

Information Contacts: Information on submission requirements and Federal forms can be obtained from Liz Fairey at 301-713-3459 or by e-mail at liz.fairey@noaa.gov. Technical point of contact for NOAA Coral Reef Conservation Grant Program/Projects to Improve or Amend Coral Reef Fishery Management Plans Grants Program is Andy Bruckner, 301-713-3459, extension 190 or e-mail at andy.bruckner@noaa.gov.

Eligibility: Eligible applicants are limited to the Western Pacific Regional Fishery Management Council, the South Atlantic Fishery Management Council, the Gulf of Mexico Fishery Management Council, and the Caribbean Fishery Management Council.

Cost Sharing Requirements: No cost sharing or matching is required under this program. The Administrator has waived the matching requirement for the Fishery Management Councils as discussed in Section VII of the Coral Reef Conservation Grant Program Implementation Guidelines (Federal Register Vol. 67, No. 76, page 19396, Friday, April 19, 2002). This waiver is based on the fact that the Councils are funded solely by awards from the U.S. Federal Government, and therefore, do not have the ability to generate matching funds.

Intergovernmental Review: Applications under this CRFMPGP are subject to Executive Order 12372, Intergovernmental Review of Federal Programs. Specific information regarding Intergovernmental Review can be found above in Section IV. Application and Submission Information, D. Intergovernmental Review.

(8) FY2008 Community-based Habitat Restoration Project Grants

Summary Description: The NOAA Community-based Restoration Program (CRP) provides funding and technical expertise to catalyze the implementation of locally-driven, grass-roots habitat restoration projects that will benefit living marine and coastal resources, including diadromous fish. Projects funded through the CRP have strong on-the-ground habitat restoration components that provide educational and social benefits for people and their communities in addition to long-term ecological habitat improvements for NOAA trust resources. Through this solicitation, the CRP identifies potential restoration projects, strengthens the development and implementation of sound restoration projects and science-based monitoring of such projects within communities, and develops long-term, ongoing national and regional partnerships to support community-based restoration of living marine and coastal resource habitats across a wide geographic area. Proposals selected for funding through this solicitation will be implemented through a cooperative agreement.

Funding of up to $3,000,000 is expected to be available for Community-based Habitat Restoration Project Grants in FY 2008. The NOAA Restoration Center (RC) anticipates that typical awards will range from $50,000 to $200,000.

Funding Availability: This solicitation announces that funding of up to $3,000,000 is expected to be available for Community-based Habitat Restoration Project Grants in FY 2008. Actual funding availability for this program is contingent upon Fiscal Year 2008 Congressional appropriations. The NOAA Restoration Center anticipates that typical project awards will range from $50,000 to $200,000; NOAA will not accept proposals for under $30,000 or proposals for over $250,000 under this solicitation. There is no guarantee that sufficient funds will be available to make awards for all proposals. The number of awards to be made as a result of this solicitation will depend on the number of eligible applications received, the amount of funds requested for initiating restoration projects by the applicants, the merit and ranking of the proposals, and the amount of funds made available to the CRP by Congress. The CRP anticipates that between 10 and 20 awards will be made as a result of this solicitation. The exact amount of funds that may be awarded will be determined in pre-award negotiations between the applicant and NOAA representatives. Publication of this document does not obligate NOAA to award any specific project or obligate all or any parts of any available funds. In FY 2006, 12 applications were recommended for funding ranging from $32,766 to $175,000 for a total of $1,009,466. In FY 2005, 18 applications were recommended for funding ranging from $20,000 to $211,507 for a total of $1.72 million. In FY 2004, 14 applications were recommended for funding ranging from $30,000 to $206,277 for a total of $1.37 million.

Statutory Authority: The Secretary of Commerce is authorized under the Magnuson-Stevens Fishery Conservation and Management Reauthorization Act of 2006 (H.R. 5946) to provide funding and technical expertise for fisheries and coastal habitat restoration and to promote significant community support and volunteer participation in such activities. The Secretary of Commerce is also authorized under the Fish and Wildlife Coordination Act, 16 U.S.C. 661, as amended by the Reorganization Plan No. 4 of 1970, to provide grants or cooperative agreements for fisheries habitat restoration.

Catalog of Federal Domestic Assistance (CFDA) Number: 11.463, Habitat Conservation.

Application Deadline: Applications must be received by Grants.gov no later than 11:59 p.m. EDT on September 27, 2007. If Grants.gov cannot reasonably be used, a hard copy application must be postmarked, or provided to a delivery service and documented with a receipt, by September 27, 2007. No facsimile or electronic mail applications will be accepted.

Address for Submitting Proposals: Applicants are strongly encouraged to apply through www.grants.gov. It takes approximately 3 weeks to register with Grants.gov, and registration is required only once. Applicants should consider the time needed to register with Grants.gov, and should begin the registration process well in advance of the application due date if they have never registered with Grants.gov. Applications must be received by Grants.gov no later than 11:59 PM EDT on September 27, 2007 to be considered for funding. Applicants should allow themselves time to submit the proposal to Grants.gov, as the deadline for submission cannot be extended and there is the potential for human or computer error during the Grants.gov submission process. If Grants.gov cannot reasonably be used, a hard copy application with the SF424 signed in ink (blue ink is preferred) must be postmarked, or provided to a delivery service and documented with a receipt, by September 27, 2007, and sent to: NOAA Restoration Center (F/HC3), Community-based Restoration Program, NOAA Fisheries, 1315 East West Highway, Rm. 14727, Silver Spring, MD 20910. ATTN: CRP Project Applications. Applications postmarked or provided to a delivery service after that time will not be considered for funding. Applications submitted via the U.S. Postal Service must have an official postmark; private metered postmarks are not acceptable. In any event, applications received later than 15 business days following the postmark closing date will not be accepted. No facsimile or electronic mail applications will be accepted. Applicants desiring acknowledgment of receipt of their applications should include a self-addressed postcard. Paper applications should be printed on one side only, on 8.5″ x 11″ paper, and should not be bound in any manner. Applicants submitting paper applications should also include a full copy of the application on a compact disc (CD).

Information Contacts: For further information contact Cathy Bozek or Melanie Gange at (301) 713-0174, or by fax at (301) 713-0184, or by e-mail at Cathy.Bozek@noaa.gov or Melanie.Gange@noaa.gov. Potential applicants are invited to contact CRP staff before submitting an application to discuss the applicability of project ideas to the CRP's goals and objectives. Additional information on the CRP, including examples of community-based habitat restoration projects that have been funded to date, can be found on the World Wide Web at http://www.nmfs.noaa.gov/habitat/restoration.

Eligibility: Eligible applicants are institutions of higher education, hospitals, other non-profits, commercial (for profit) organizations, organizations under the jurisdiction of foreign governments, international organizations, and state, local and Indian tribal governments whose projects have the potential to benefit NOAA trust resources.

Applications from federal agencies or employees of Federal agencies will not be considered.

Federal agencies are strongly encouraged to work with states, non-governmental organizations, national service clubs or youth corps organizations and others that are eligible to apply. The Department of Commerce/National Oceanic and Atmospheric Administration (DOC/NOAA) is strongly committed to broadening the participation of historically black colleges and universities, Hispanic serving institutions, tribal colleges and universities, and institutions that work in under-served areas. The CRP encourages proposals involving any of the above institutions.

Cost Sharing Requirements: A major goal of the CRP is to provide seed money to projects that leverage funds and other contributions from a broad public and private sector to implement locally important habitat restoration to benefit living marine and coastal resources. Cost-sharing is not required however it does affect a proposal's score (see criterion 4, Section V.A. of the Federal Funding Opportunity).

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at http://www.whitehouse.gov/omb/grants/spoc.html.

(9) FY2008 Open Rivers Initiative

Summary Description: The NOAA Open Rivers Initiative (ORI) provides funding to catalyze the implementation of locally-driven projects to remove dams and other barriers, in order to benefit living marine and coastal resources, particularly diadromous fish. Projects funded through the Open Rivers Initiative have strong on-the-ground habitat restoration components that foster economic, educational, and social benefits for citizens and their communities in addition to long-term ecological habitat improvements for NOAA trust resources. Through the ORI, NOAA provides funding and technical assistance for barrier removal projects. Proposals selected for funding through this solicitation will be implemented through a cooperative agreement. Funding of up to $6,000,000 is expected to be available for ORI Project Grants in FY 2008. The NOAA Restoration Center (RC) within the Office of Habitat Conservation will administer this grant initiative, and anticipates that typical awards will range from $50,000 to $250,000. Although a select few may fall outside of this range, project proposals requesting less than $30,000 or greater than $1,000,000 will not be accepted or reviewed.

Funding Availability: This solicitation announces that funding of up to $6,000,000 is expected to be available for Open Rivers Initiative Project Grants in FY 2008. Actual funding availability for this program is contingent upon Fiscal Year 2008 Congressional appropriations. NOAA anticipates that typical project awards will range from $50,000 to $250,000; proposals requesting less than $30,000 or more than $1,000,000 will not be accepted under this solicitation.

NOAA does not guarantee that sufficient funds will be available to make awards for all proposals. The number of awards to be made as a result of this solicitation will depend on the number of eligible applications received, the amount of funds requested by the applicants, the merit and ranking of the proposals, and the amount of funds made available to the ORI by Congress. NOAA anticipates that between 20 and 40 awards will be made as a result of this solicitation. The exact amount of funds that may be awarded will be determined in pre-award negotiations between the applicant and NOAA representatives.

Publication of this document does not obligate NOAA to award any specific project or obligate all or any parts of any available funds.

Statutory Authority: The Secretary of Commerce is authorized under the Fish and Wildlife Coordination Act, 16 U.S.C. 661, as amended by the Reorganization Plan No. 4 of 1970, to provide grants or cooperative agreements for fisheries habitat restoration. The Secretary of Commerce is also authorized under the Magnuson-Stevens Fishery Conservation and Management Reauthorization Act of 2006 (H.R. 5946) to provide funding and technical expertise for fisheries and coastal habitat restoration and to promote significant community support and volunteer participation in such activities.

Catalog of Federal Domestic Assistance (CFDA) Number: 11.463, Habitat Conservation.

Application Deadline: Applications should be submitted via grants.gov, and must be received by grants.gov no later than 11:59 p.m. EDT on October 31, 2007. If http://www.grants.gov cannot reasonably be used, a hard copy application, with the SF-424 Form bearing an original, ink signature must be postmarked, or provided to a delivery service and documented with a receipt, by October 31st, 2007. No facsimile or electronic mail applications will be accepted.

Address for Submitting Proposals: Applicants are strongly encouraged to apply through www.grants.gov and should note that it takes approximately 3 weeks to register with grants.gov, and registration is required only once. Applicants should consider the time needed to register with grants.gov, and should begin the registration process well in advance of the application due date if they have never registered with grants.gov. If www.grants.gov cannot reasonably be used, a hard copy application with the SF-424 bearing an original, ink signature must be postmarked, or provided to a delivery service and documented with a receipt, by October 31st, 2007, and sent to: NOAA Restoration Center (F/HC3), Office of Habitat Conservation, NOAA Fisheries, 1315 East West Highway, Rm. 14718, Silver Spring, MD 20910. ATTN: Open Rivers Initiative Project Applications. Applications postmarked or provided to a delivery service after that time will not be considered for funding.

Applications submitted via the U.S. Postal Service must have an official postmark; private metered postmarks are not acceptable. In any event, applications received later than 15 business days following the postmark closing date will not be accepted. No facsimile or electronic mail applications will be accepted. Paper applications should be printed on one side only, on 8.5″ x 11″ paper, and should not be bound in any manner. Applicants submitting paper applications should also include a full copy of the application on a compact disc (CD).

Information Contacts: For further information contact Tisa Shostik (Tisa.Shostik@noaa.gov) or Melanie Gange (Melanie.Gange@noaa.gov) at (301) 713-0174.

Potential applicants are invited to contact NOAA Restoration Center staff before submitting an application to discuss the applicability of project ideas to the goals and objectives of ORI. Additional information on the ORI can be found on the world wide web at http://www.nmfs.noaa.gov/habitat/restoration.

Eligibility: Eligible applicants are institutions of higher education, other non-profits, industry and commercial (for profit) organizations, organizations under the jurisdiction of foreign governments, international organizations, and state, local and Indian tribal governments whose projects have the potential to benefit NOAA trust resources.

Applications from federal agencies or employees of federal agencies will not be considered.

Federal agencies are strongly encouraged to work with states, non-governmental organizations, national service clubs or youth corps organizations and others that are eligible to apply. The Department of Commerce/National Oceanic and Atmospheric Administration (DOC/NOAA) is strongly committed to broadening the participation of historically black colleges and universities, Hispanic-serving institutions, tribal colleges and universities, and institutions that work in under-served areas. The ORI encourages proposals from or involving any of the above institutions.

Cost Sharing Requirements: A major goal of the ORI will be to provide seed money for projects that leverage funds and other contributions from a broad public and private sector to implement locally important barrier removals to benefit living marine and coastal resources. Cost-sharing is not required however it does affect a proposal's score (see criterion 4, Section V.A. of the Federal Funding Opportunity).

Intergovernmental Review: Applications under this initiative are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

(10) Bay Watershed Education and Training Program

Summary Description: B-WET Chesapeake is a competitively based program that supports existing environmental education programs, fosters the growth of new programs, and encourages the development of partnerships among environmental education programs throughout the entire Chesapeake Bay watershed. Funded projects assist in meeting the Stewardship and Community Engagement goals of the Chesapeake 2000 Agreement. Specifically, projects support organizations that provide meaningful watershed educational experiences for students or related professional development for teachers. NCBO is encouraging applications that include innovative technologies in the delivery of these experiences.

Funding Availability: This solicitation announces that approximately $3.5M may be available in FY 2008 in award amounts to be determined by the proposals and available funds. Actual funding availability for this program is contingent upon Fiscal Year 2008 Congressional appropriations. Annual funding is anticipated to maintain partnerships for up to 3 years duration, but is dependent on funding made available by Congress.

1. About $2.75M will be for exemplar programs that successfully integrate teacher professional development on the Chesapeake Bay watershed with in-depth classroom study and outdoor experiences for their students.

2. About $500K will be for proposals that provide opportunities either for students (K through 12) to participate in Meaningful Watershed Educational Experiences related to Chesapeake Bay or Professional Development in the area of Chesapeake Bay watershed education for teachers.

3. About $250K will be for proposals that incorporate innovative technologies into meaningful watershed educational experiences. The NCBO anticipates that typical awards for B-WET Exemplar Programs that successfully integrate teacher professional development with in-depth classroom student and outdoor experiences for their students will range from $50,000 to $200,000. Projects that represent either meaningful watershed educational experiences for students or teacher professional development in watershed education will range from $10,000 to $75,000. Technology-Based Projects will generally range from $20,000 to $150,000.

There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: Under 15 U.S.C. 1540, the Secretary of Commerce, acting through the Under Secretary of Commerce for Oceans and Atmosphere, is authorized to enter into cooperative agreements and other financial agreements with any nonprofit organization to aid and promote scientific and educational activities to foster public understanding of the National Oceanic and Atmospheric Administration or its programs.

Catalog of Federal Domestic Assistance (CFDA) Number: 11.457, Chesapeake Bay Studies.

Application Deadline: Proposals must be received by 5 p.m. eastern time on Friday, October 19, 2007.

Address for Submitting Proposals: Applicants are strongly encouraged to submit applications electronically through http://www.grants.gov. Hard copies may be submitted by postal mail, commercial delivery service, or hand-delivery. Proposals being submitted by hard copy must be received by: NOAA Chesapeake Bay Office; Education Coordinator; 410 Severn Avenue, Suite 107A; Annapolis, Maryland 21403. Facsimile transmissions and e-mail submission of proposals will not be accepted.

Information Contacts: Please visit the B-WET Web site for further information at: http://noaa.chesapeakebay.net/educationgrants.aspx or contact Shannon Sprague, NOAA Chesapeake Bay Office; 410 Severn Avenue, Suite 107A, Annapolis, MD 21403, or by phone at 410-267-5664, or fax to 410-267-5666, or via e-mail at Shannon.Sprague@noaa.gov.

Eligibility: Eligible applicants are K-through-12 public and independent schools and school systems, institutions of higher education, community-based and nonprofit organizations, state or local government agencies, interstate agencies, and Indian tribal governments in the Chesapeake Bay watershed. The Department of Commerce/National Oceanic and Atmospheric Administration (DOC/NOAA) is strongly committed to broadening the participation of historically black colleges and universities, Hispanic serving institutions, tribal colleges and universities, and institutions that work in undeserved areas. The NCBO encourages proposals involving any of the above institutions.

Cost Sharing Requirements: No cost sharing is required under this program, however, the NCBO strongly encourages applicants include a 25% or higher match. Funds from other Federal awards may not be considered matching funds. The nature of the contribution (cash versus in-kind) and the amount of matching funds will be taken into consideration in the review process.

Intergovernmental Review: Applications under this program are subject to Executive Order 12372, Intergovernmental Review of Federal Programs.

(11) 2008 Monkfish Research Set-Aside Program

Summary Description: The National Marine Fisheries Service (NMFS) announces that the New England and Mid-Atlantic Fishery Management Councils (Councils) have set aside 500 monkfish days-at-sea (DAS) to be used for research endeavors under a research set-aside (RSA) program. NMFS is soliciting proposals to utilize the DAS for research activities concerning the monkfish fishery for fishing year 2008 (May 1, 2008-April 30, 2009). Through the allocation of research DAS, the Monkfish RSA Program provides a mechanism to reduce the cost for vessel owners to participate in cooperative monkfish research. The intent of this RSA program is for fishing vessels to utilize these research DAS to conduct monkfish related research, rather than their allocated monkfish DAS, thereby eliminating any cost to the vessel associated with using a monkfish DAS.

Funding Availability: No Federal funds are provided for research under this notification. Rather, projects funded under the Monkfish RSA Program would be provided with additional opportunity to harvest monkfish, and the catch sold to generate income to offset research costs. The National Marine Fisheries Service, National Oceanic and Atmospheric Administration, U.S. Department of Commerce (NMFS), the Federal Government may issue an Exempted Fishing Permit (EFP), if needed, to provide special fishing privileges in response to research proposals selected under this program. For example, vessels participating in an approved research project may be authorized by the Northeast Regional Administrator, NMFS, to harvest monkfish in excess of established possession limits. Two awards were issued under the 2006 Monkfish RSA Program, with these projects recently ending in April 2007. Three awards were issued under the 2007 Monkfish RSA Program, and these projects are expected to commence in May 2007. A total of 137.5 RSA DAS were issued to projects during FY 2006, and a total of 367 RSA DAS have been issued to projects for FY 2007. For FY 2008, it is anticipated that 2-5 awards will be made. Funds generated from landings harvested and sold under the Monkfish RSA Program shall be used to cover the cost of research activities, including vessel costs. For example, the funds may be used to pay for gear modifications, monitoring equipment, the salaries of research personnel, or vessel operation costs. The Federal Government shall not be liable for any costs incurred in the conduct of the project. Specifically, the Federal Government is not liable for any costs incurred by the researcher or vessel owner should the sale of catch not fully reimburse the researcher or vessel owner for his/her expenses.

Statutory Authority: Grants issued through the RSA program are consistent with 16 U.S.C. 1853(b)(11), 16 U.S.C. 1881a(e), and 16 U.S.C. 1881(c). The ability to set aside monkfish DAS for research purposes was established in the final rule implementing Amendment 2 to the Monkfish Fishery Management Plan (70 FR 21927, April 28, 2005), and codified in the regulations at 50 CFR 648.92(c).

Catalog of Federal Domestic Assistance (CFDA) Number: 11.454, Unallied Management Projects.

Application Deadline: Applications must be received on or before 5 p.m. Eastern Daylight Time, August 31, 2007.

Address for Submitting Proposals: Proposals must be submitted electronically through http://www.grants.gov, or as hard copy (by postal mail, commercial delivery service, or hand delivery) to NMFS, Northeast Fisheries Science Center, 166 Water Street, Woods Hole, MA 02543. Delays may be experienced when Registering with Grants On-line near the end of a solicitation period. Therefore, NOAA strongly recommends that applicants do not wait until the deadline date to begin the application process through http://www.grants.gov. Electronic or hard copies received after the deadline will not be considered, and hard copy applications will be returned to the sender.

Information Contacts: Administrative questions: Allison McHale, Fishery Policy Analyst, NMFS, by phone 978-281-9103, fax 978-281-9135, or e-mail at allison.mchale@noaa.gov. Technical questions: Kelly Taranto, NMFS, Northeast Fisheries Science Center, 166 Water Street, Woods Hole, MA 02543 by phone 508-495-2312, fax 508-495-2004, or e-mail at kelly.taranto@noaa.gov.

Eligibility: Eligible applicants include, but are not limited to, institutions of higher education, hospitals, other non-profits, commercial organizations, individuals, state, local, and Native American tribal governments. Federal agencies and institutions are not eligible to receive Federal assistance under this notice. Additionally, employees of any Federal agency or Regional Fishery Management Council (Council) are ineligible to submit an application under this program. However, Council members who are not Federal employees may submit an application.

Cost Sharing Requirements: None.

Intergovernmental Review: Applications under the program are not subject to Executive Order 12372, Intergovernmental Review of Federal Programs.

(12) 2008/2009 Atlantic Herring Research Set-Aside (RSA)

Program: NMFS announces that for 2008 and 2009 Atlantic herring (herring) fishing years (January 1-December 31), the New England Fishery Management Council (Council), in consultation with the Atlantic States Marine Fisheries Commission, has set aside 3 percent of the total allowable catch (TAC) from herring management areas 1A, 1B, 2, and 3, to be used for research endeavors under a research set-aside (RSA) program. The RSA program provides a mechanism to fund research and compensate vessel owners through the sale of fish harvested under the research quota. Vessels participating in research and/or compensation activities of an approved research project may be authorized by the Northeast Regional Administrator, NMFS, to harvest and land fish from management areas closed due to attainment of a commercial quota. Landings from such trips shall be sold to generate funds that help defray the costs associated with the approved research projects. No Federal funds are provided for research under this notification. Priority shall be given to funding research proposals in the following general subject areas: (1) Efforts to define localized herring depletion on a spatial and temporal scale, (2) assessment of bycatch/discards in the directed herring fishery, (3) commercial herring catch sampling programs and portside bycatch surveys, (4) herring predator/prey information synthesis and investigations addressing information gaps, (5) development and testing of herring gear modifications to minimize interactions with non-target species in the herring fishery, and (6) development of tagging and morphometric studies to explore uncertainties in herring stock structure, stock mixing rates, and the impacts of harvest mortality on different components of the stock. For a detailed description of the research priorities, see 2008/2009 Atlantic Herring RSA Program Research Priorities listed in full text at http://www.grants.gov, Federal Funding Opportunity #NMFS-NEFSC-2008-2001107.

Funding Availability: No Federal funds are provided for research under this notification, but rather the opportunity to fish with the catch sold to generate income to offset research costs. Individual research projects may apply for the use of more than one herring research set-aside allocation from the 2008 and/or 2009 fishing year(s). Multi-year projects can be funded since the herring RSA program is intended to be consistent with the three-year harvest specification process. The research compensation trips must be conducted in the management area from which the set-aside was derived. In addition, an awarded TAC set-aside must be utilized in the same fishing year from which it was distributed. For example, a 2008 TAC RSA from Management Area 2 must be harvested before the end of the 2008 fishing year (December 31, 2008). However, the money generated from the RSA may be rolled over into, or used to fund research in, future years, consistent with the multi-year proposal. No more than 50 percent of an allocated set-aside should be taken before the research begins. Proposals may request that set-aside herring be collected separately from the research trip(s) or as part of the research trip(s). To set a value on the TAC set asides, the value of the herring must be estimated. This Federal Funding Opportunity (FFO) uses an estimated price based on the average 2005 price of $202 per metric ton (mt) established through herring dealer reports. By requiring researchers to use this price in requesting RSA TAC, all proposals will relate herring catch to research costs similarly. The Federal Government may issue a Letter of Authorization (LOA) or Exempted Fishing Permit (EFP), as applicable, which may provide special fishing privileges in response to research proposals selected under this program. Funds generated from the RSA landings shall be used to cover the cost of the research activities, including vessel costs, and to compensate vessels for expenses incurred during the collection of the set-aside species. For example, the funds may be used to pay for gear modifications, monitoring equipment, additional provisions (e.g., fuel, ice, food for scientists), or the salaries of research personnel. The Federal Government is not liable for any costs incurred by the researcher or vessel owner should the sale of the excess catch not fully reimburse the researcher or vessel owner for their expenses. If a research project is terminated for any reason prior to completion, any funds collected from the catch sold to pay for research expenses must be refunded to the U.S. Treasury. The Council, in consultation with the Commission, has incorporated the level of RSA (amounts or percentages) for each of the management areas into the final two years of the three year quota specification process. Final specifications were published in the Federal Register on April 10, 2007 (Volume 72, Number 68). NMFS will consider the recommended level of RSA as part of the associated rulemaking process. The estimated values of the set-aside allocations will vary, depending on market considerations prevailing at the time the research compensation trips are conducted.

Statutory Authority: Grants issued through the RSA program are consistent with 16 U.S.C.1853(b)(11), 16 U.S.C. 1881a(e), and 16 U.S.C. 1881(c). Amendment 1 of the FMP established a process which allows herring set-aside for the RSA program to be awarded to selected RSA applicants to fund approved herring research.

Catalog of Federal Domestic Assistance (CFDA) Number: 11.454, Unallied Management Projects.

Application Deadline: Applications must be received on or before 5 p.m. EST, August 16, 2007.

Address for Submitting Proposals: Application information is available at http://www.grants.gov. Electronic copies of the Standard Forms for submission of research proposals may be found on the Internet in a PDF (Portable Document Format) version at http://www.ago.noaa.gov/grants/appkit.shtml. Delays may be experienced when registering with Grants.gov near the end of a solicitation period. Therefore, NMFS strongly recommends that you do not wait until the application deadline to begin the registration/application process through the Grants.gov Web site. Applicants without Internet access can contact Kelly A. Taranto, NMFS, Northeast Fisheries Science Center, 166 Water Street, Woods Hole, MA 02543, or by phone at 508-495-2312, or fax at 508-495-2004, or via e-mail at kelly.taranto@noaa.gov. To apply for this NOAA Federal funding opportunity, please go to http://www.grants.gov and use the following funding opportunity #NMFS-NEFSC-2008-2001107.

Information Contacts: Information may be obtained from Paul Howard, Executive Director, New England Fishery Management Council, by phone at 978-465-0492, or fax at 978-465-3116; or Kelly A. Taranto, NMFS, Northeast Fisheries Science Center, 166 Water Street, Woods Hole, MA 02543, or by phone at 508-495-2312, or fax at 508-495-2004, or via e-mail at kelly.taranto@noaa.gov.

Eligibility: 1. Eligible applicants include institutions of higher education, hospitals, other nonprofits, commercial organizations, individuals, and state, local, and Native American tribal governments. Federal agencies and institutions are not eligible to receive Federal assistance under this notice. Additionally, employees of any Federal agency or Regional Fishery Management Council are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

Cost Sharing Requirements: None required.

Intergovernmental Review: Applicants will need to determine if their state participates in the intergovernmental review process. This information can be found at the following Web site: http://www.whitehouse.gov/omb/grants/spoc.html. This information will assist applicants in providing either a Yes or No response to Item 16 of the Application Form, SF-424, entitled. “Application for Federal Assistance.”

(13) John H. Prescott Marine Mammal Rescue Assistance Grant Program

Summary Description: The Marine Mammal Health and Stranding Response Program of the National Marine Fisheries Service is charged under the Marine Mammal Protection Act with facilitating the collection and dissemination of reference data on stranded marine mammals and health trends of marine mammal populations in the wild. Through cooperation with NMFS Regional Coordinators, local organizations and state and local government officials respond to and collect valuable data from stranded marine mammals as participants in the national Marine Mammal Stranding Network. The John H. Prescott Marine Mammal Rescue Assistance Grant Program is conducted by NOAA to provide Federal assistance to eligible members of the Stranding Network to: (A) Support basic needs of organizations for response, treatment, and data collection from living and dead stranded marine mammals, (B) fund scientific research objectives designed to answer questions about marine mammal strandings, health, or rehabilitation techniques utilizing data from living and dead stranded marine mammals, and (C) support facility operations directly related to the recovery or treatment of stranded marine mammals and collection of data from living or dead stranded marine mammals.

Funding Availability: This solicitation announces that a maximum of $4M may be available for distribution under the FY 2008 annual competitive Prescott Program. The maximum Federal award for each grant cannot exceed $100,000, as stated in the legislative language (16 U.S.C. 1421f-1). Actual funding availability for this program is contingent upon Fiscal Year 2008 Congressional appropriations. Applicants are hereby given notice that these funds have not yet been appropriated for this program, and therefore exact dollar amounts cannot be given. There is no guarantee that sufficient funds will be available to make awards for all qualified projects. The total amount available may also be reduced by the use of funds to supplement the emergency assistance portion of the Prescott program if necessary.

Statutory Authority: 16 U.S.C. 1421f-1.

Catalog of Federal Domestic Assistance (CFDA) Number: 11.439 Marine Mammal Data Program.

Application Deadline: Proposals must be postmarked or submitted online by 11:59 p.m. EDT on Monday, October 1, 2007.

Address for Submitting Proposals: All applications should be submitted via the Grants.Gov Find and Apply Web site. Should you encounter a problem with submitting your application online, you may submit a paper proposal package (one signed original and two copies) to: NOAA/NMFS/Office of Protected Resources, Marine Mammal Health and Stranding Response Program, Attn: Michelle Ordono, 1315 East-West Highway, Room 13620, Silver Spring, MD 20910-3283, phone 301-713-2322 ext 177.

Information Contacts: Please visit the Prescott Grant Program Web site at: http://www.nmfs.noaa.gov/pr/health/prescott/ or contact Michelle Ordono or Sarah Wilkin at the NOAA/NMFS/Office of Protected Resources, Marine Mammal Health and Stranding Response Program, 1315 East-West Highway, Room 13620, Silver Spring, MD 20910-3283, by phone at (301) 713-2322, or by fax at (301) 427-2525, or by e-mail at PrescottGrantFR.comments@noaa.gov.

Eligibility: There are 3 categories of eligible stranding network participants that may apply for funds under this Program: (1) Stranding Agreement (SA) holders or their designee organizations; (2) holders of researcher authorization letters issued by a NMFS Regional Administrator; and, (3) state, local, eligible federal government or tribal employees or personnel.

Cost Sharing Requirements: All proposals submitted must provide a minimum non-Federal cost share of 25 percent of the total budget (i.e., .25 × total project costs = total non-Federal share). Therefore, the total Federal share will be 75 percent or less of the total budget. The applicant can include a non-Federal cost share for more than 25 percent of the total budget, but this obligation will be binding. In order to reduce calculation error in determining the correct cost share amounts, we urge all applicants to use the cost share calculator on the Prescott Program Web page http://www.nmfs.noaa.gov/pr/health/prescott/proposals/costshare.htm). If a proposal does not comply with these cost share requirements, it will not be considered in this annual funding cycle.

Intergovernmental Review: Applications submitted under this program are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

(14) Saltonstall-Kennedy Grant Program

Summary Description: The Saltonstall-Kennedy Act established a fund (known as the S-K fund) that the Secretary of Commerce uses to provide grants or cooperative agreements for fisheries research and development projects addressed to any aspect of U.S. fisheries, including, but not limited to, harvesting, processing, marketing, and associated infrastructures. U.S. fisheries include any fishery, commercial or recreational, that is, or may be, engaged in by citizens or nationals of the United States, or citizens of the Northern Mariana Islands (NMI), the Republic of the Marshall Islands, Republic of Palau, and the Federated States of Micronesia.

Funding Availability: Funding is contingent upon availability of Federal allocations. The program has sought funding for $5.3 million in grant awards. There are four individual program areas in which a single grant of approximately $1 million in each area will be issued. These programs involve: (1) Cooperative research on right whale gear entanglement mitigation strategies; (2) Strategies to minimize catch of Klamath River Chinook Salmon in mixed salmon fisheries on the West Coast; (3) Efforts to understand impacts of reduced fishing effort in shrimp and reef fish (e.g. red snapper) fisheries on the Gulf of Mexico ecosystem; and (4) Support for the New England fishing industry in cooperative groundfish survey projects related to the change in trawl survey procedures. For the remaining $1.3 million, we anticipate awarding 8-10 grants of approximately $100,000 to $250,000 each. Applicants are hereby given notice that funds have not yet been allocated for this program. In no event will NOAA or the Department of Commerce be responsible for proposal preparation costs if this program fails to receive funding or is cancelled because of other agency priorities. Publication of this notice does not oblige NOAA to award any specific project or to obligate any available funds.

Statutory Authority: Authority for the Saltonstall-Kennedy Grant Program is provided under the Saltonstall-Kennedy Act (S-K Act), as amended (15 U.S.C. 713c-3).

Catalog of Federal Domestic Assistance (CFDA) Number: 11.427, Fisheries Dev and Utilization Research and Dev Grants and Coop Agreements Program.

Application Deadline: Applications should be submitted electronically through the Federal grants portal— http://www.grants.gov and must be received by 5 p.m. EST on October 1, 2007. Grants.gov provides a date and time indicator for timeliness. Facsimile transmission and electronic mail submission of applications will not be accepted. Hard copies may only be sent if an applicant does not have Internet access. Hard copy applications will be date and time stamped when they are received.

Address for Submitting Proposals: Applications submitted in response to this announcement should be submitted electronically through the Federal grants portal— http://www.grants.gov. Electronic access to the full funding announcement for this program is also available through this Web Site. Hard copies may only be sent if an applicant does not have Internet access. They must be received by the deadline. These should be addressed to SK Competitive Program, Attn: Steve Aguzin, National Marine Fisheries Service, F/MB5-SSMC3, Room 13134, 1315 East West Hwy, Silver Spring, MD 20910-3282.

Information Contacts: The point of contact is: Steve Aguzin, S-K Program Manager, NOAA/NMFS (F/MB5); 1315 East-West Highway, Room 13134; Silver Spring, MD 20910-3282; or by Phone at (301) 713-2358 ext. 215, or fax at (301) 713-1306, or via e-mail at Stephen.Aguzin@noaa.gov.

Eligibility: You are eligible to apply for a grant or a cooperative agreement under the Saltonstall-Kennedy Grant Program if: 1. You are a citizen or national of the United States; 2. You are a citizen of the Northern Mariana Islands (NMI), being an individual who qualifies as such under section 8 of the Schedule on Transitional Matters attached to the constitution of the NMI; 3. You are a citizen of the Republic of the Marshall Islands, Republic of Palau, or the Federated States of Micronesia; or 4. You represent an entity that is a corporation, partnership, association, or other non-Federal entity, non-profit or otherwise (including Indian tribes), if such entity is a citizen of the United States or NMI, within the meaning of section 2 of the Shipping Act, 1916, as amended (46 U.S.C. app. 802). We support cultural and gender diversity in our programs and encourage women and minority individuals and groups to submit applications. Furthermore, we recognize the interest of the Secretaries of Commerce and Interior in defining appropriate fisheries policies and programs that meet the needs of the U.S. insular areas, so we also encourage applications from individuals, government entities, and businesses in U.S. insular areas. We are strongly committed to broadening the participation of Minority Serving Institutions (MSIs), which include Historically Black Colleges and Universities, Hispanic Serving Institutions, and Tribal Colleges and Universities, in our programs, including S-K. Therefore, we encourage all applicants to include meaningful participation of MSIs. We encourage applications from members of the fishing community, and applications that involve fishing community cooperation and participation. We will consider the extent of fishing community involvement when evaluating the potential benefit of funding a proposal. You are not eligible to submit an application under this program if you are an employee of any Federal agency; a Council; or an employee of a Council. However, Council members who are not Federal employees can submit an application to the S-K Program. Our employees (whether full-time, part-time, or intermittent) are not allowed to help you prepare your application, except that S-K Program staff may provide you with information on program goals, funding priorities, application procedures, and completion of application forms. Since this is a competitive program, NMFS and NOAA employees will not help with conceptualizing, developing, or structuring proposals, or write letters of support for a proposal.

Cost Sharing Requirements: We are requiring cost sharing in order to leverage the limited funds available for this program and to encourage partnerships among government, industry, and academia to address the needs of fishing communities. You must provide a minimum cost share of 10 percent of total project costs, but your cost share must not exceed 50 percent of total costs. You may find this formula useful: 1. Total Project Cost (Federal and non-Federal cost share combined) × .9 = Maximum Federal Share. 2. Total Cost − Federal share = Applicant Share. For example, if the proposed total budget for your project is $100,000, the maximum Federal funding you can apply for is $90,000 ($100,000 × .9). Your cost share in this case would be $10,000 ($100,000−$90,000). For a total project cost of $100,000, you must contribute at least $10,000, but no more than $50,000 (10-50 percent of total project cost). Accordingly, the Federal share you apply for would range from $50,000 to $90,000. If your application does not comply with these cost share requirements, we will return it to you and will not consider it for funding.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

National Ocean Service (NOS)

(1) CRCP-State and Territory Coral Reef Management Grants

Summary Description: The NOAA Coral Reef Conservation Grant Program, as authorized under the Coral Reef Conservation Act of 2000, provides matching grants to Governor-appointed point of contact agencies for the jurisdictions of Puerto Rico, the U.S. Virgin Islands (USVI), Florida, Hawaii, Guam, the Commonwealth of the Northern Mariana Islands (CNMI), and American Samoa for coral reef management activities. The objective of the State and Territory Coral Reef Management Grant program is to support comprehensive management programs for the conservation of coral reef ecosystems in these jurisdictions.

Funding Availability: Funding up to $3,000,000 is expected to be available from OCRM and DOI/OIA for cooperative agreements to support priority coral reef management activities that address areas a-j above. There is no appropriation of funds at this time and the final funding amount will be subject to the availability of federal appropriations. Support in out-years following FY2008 is likewise contingent upon the availability of future funding and the requirements of the Federal agency supporting the project (DOC or DOI). Each eligible jurisdiction can apply for a maximum $600,000. A minimum of 40% of the final award amount must be dedicated to the implementation and support of the Local Action Strategy initiative in each jurisdiction. In certain instances, when requested by the applicant and agreed upon by NOAA and DOI, NOAA may hold back a portion of any awarded funds in order to provide specific coral reef conservation technical assistance in the form of contractual or other services. This will only be allowed where such priority technical assistance and/or the lack of sufficient means to deliver it are unavailable at the local level. Such requests proposed herein will be reviewed on a case by case basis with respect to the specific management objectives of this and the local coral reef program. If all funds that become available after Congressional appropriation are not awarded, NOAA and DOI will consult with the eligible applicants on the use of any residual funds. NOAA and DOI will work with each jurisdiction to ensure the greatest degree of success in meeting local, state, territorial and national coral reef management needs.

Statutory Authority: Authority for the NOAA Coral Reef Conservation Grant Program is provided by Section 6403 (Coral Reef Conservation Program) of the Coral Reef Conservation Act of 2000 (16 U.S.C. 6401 et seq).

Catalog Of Federal Domestic Assistance (CFDA) Number: 11.419, Coastal Zone Management Administration Awards.

Application Deadline: Pre-applications must be received no later than 11:59 p.m. Eastern Standard Time on Tuesday, November 6, 2007. Final applications must be received no later than 11:59 p.m. Eastern Standard Time on Friday, February 22, 2008.

Address For Submitting Proposals: Pre-applications should be submitted electronically by e-mail to: coral.grants@noaa.gov. If internet access is not available, submissions by surface mail should be sent to: David Kennedy, NOAA National Ocean Service, NOAA Coral Reef Conservation Program, Office of Response and Restoration, N/ORR, Room 10102, 1305 East-West Highway, Silver Spring, MD 20910. Final applications should be submitted electronically to: www.grants.gov, the Federal grants portal. If internet access is unavailable, hard copies can be submitted to: David Kennedy, NOAA National Ocean Service, NOAA Coral Reef Conservation Program, Office of Response and Restoration, N/ORR, Room 10102, 1305 East West Highway, Silver Spring, MD 20910.

Information Contacts: Technical point of contact for State and Territory Coral Reef Management is Dana Wusinich-Mendez at 301-713-3155, extension 159 or e-mail at dana.wusinich-mendez@noaa.gov. FAX; 301-713-4367. Address: OCRM/NOAA, N/-ORM3, 1305 East West Highway, Silver Spring, MD, 20910.

Eligibility: Eligible applicants are the governor-appointed point of contact agencies for coral reef activities in each of the jurisdictions of American Samoa, Florida, the Commonwealth of the Northern Mariana Islands, Guam, Hawaii, Puerto Rico, and the U.S.Virgin Islands.

Cost Sharing Requirements: As per section 6403(b)(1) of the Coral Reef Conservation Act of 2000, Federal funds for any coral conservation project funded under this Program may not exceed 50 percent of the total cost of the projects. Therefore, any coral conservation project under this program requires a 1:1 match. Match can come from a variety of public and private sources and can include in-kind goods and services such as private boat use and volunteer labor. Federal sources cannot be considered for matching funds, but can be described in the budget narrative to demonstrate additional leverage. Applicants are permitted to combine contributions from multiple non-federal partners in order to meet the 1:1 match recommendation, as long as such contributions are not being used to match any other funds. Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected to be funded. As per section 6403(b)(2) of the Coral Reef Conservation Act of 2000, the NOAA Administrator may waive all or part of the matching requirement if the Administrator determines that the project meets the following two requirements: 1. No reasonable means are available through which an applicant can meet the matching requirement, and, 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Please Note: eligible applicants choosing to apply 48 U.S.C. 1469a(d) should note the use of the waiver and the total amount of funds requested to be waived in the matching funds section of the respective application.

Intergovernmental Review: Applications under the this program are not subject to Executive Order 12372, Intergovernmental Review of Federal Programs.

(2) National Estuarine Research Reserve Land Acquisition and Construction Program FY08

Summary Description: The National Estuarine Research Reserve System consists of estuarine areas of the United States and its territories which are designated and managed for research and educational purposes. Each reserve within the system is chosen to represent different bio-geographic regions and to include a variety of ecosystem types in accordance with the classification scheme of the national program as presented in 15 CFR part 921.

Through the funding of designated reserve agencies and universities to undertake land acquisition and construction projects that support the NERRS purpose, NOAA will strengthen protection of key land and water areas; enhance long-term protection of the area for research and education; and provide for facility and exhibit construction.

Funding Availability: This funding opportunity announces that approximately $7.178 million may be available to designated reserve agencies or universities only through this announcement for fiscal year 2008. Awards will be issued as competitive grants. It is anticipated that the awards will run for up to two years. In the past, funding for land acquisition/construction awards has ranged in amount from approximately $50,000 to $3 million.

Statutory Authority: Authority for the NERR program is provided by 16 U.S.C. 1461 (e)(1)(A)(i),(ii), and (iii).

Catalog of Federal Domestic Assistance (CFDA) Number: 11.420, Coastal Zone Management Estuarine Research Reserves.

Application Deadline: Complete grant application proposals must be submitted to Grants.gov by Friday, 6 p.m., Eastern standard time, November 30, 2007. Notification regarding the selection of proposals will be issued on or about January 18, 2008. The grant awards will start the first day of the month beginning June 1 through November 1, 2008.

Address for Submitting Proposals: Applications should be submitted through www.grants.gov. For applicants without internet access, contact Doris Grimm, NOAA/OCRM/ERD, 1305 East-West Highway, Room 10501; Silver Spring, Maryland 20910, or by phone at 301-713-3155, ext. 107.

Information Contacts: Administrative and Technical questions regarding the program and application process, please contact Doris Grimm, program coordinator, at NOAA/Estuarine Reserves Division, 1305 East-West Highway, N/ORM5, SSMC4, Station 10509, Silver Spring, MD 20910 or via phone: 301-713-3155 ext. 107, e-mail: doris.grimm@noaa.gov, or fax: 301-713-4363. The program Web site can be accessed at www.ocrm.nos.noaa.gov/nerr.html. Other questions should be directed to Doris Grimm at 301-713-3155, extension 107, doris.grimm@noaa.gov or Laurie McGilvray at (301) 713-3155 ext. 158, laurie.mcgilvray@noaa.gov.

Eligibility: Eligible applicants are National Estuarine Research Reserves (NERR) lead state agencies or universities in coastal states. Eligible applicants should have completed all requirements as stated in the NERRS regulations [CITE 15 CFR 921] Title 15—Commerce and Foreign Trade, Chapter IX—National Oceanic and Atmospheric Administration, Department of Commerce, Part 921—National Estuarine Research Reserve System. regulations, http://nerrs.noaa.gov/Background_Regulations.html.

Cost Sharing Requirements: The amount of federal funds requested must be matched by the applicant: 30 percent total project match for construction awards and 50 percent total project match for land acquisition awards. Cash or in-kind contributions directly benefiting the project may be used to satisfy the matching requirements. If using Reserve land acquisition banked match, a list of the banked match must be included with the application. Applicants must identify all match sources and amounts equal to that requested above.

Intergovernmental Review: Applications under this program are subject to Executive Order 12372, “Intergovernmental Review of Federal Programs.” Applicants should contact their State Single Point of Contact (SPOC) to find out about and comply with the States process under EO12372. The names and addresses of the SPOCs are listed in the Office of Management and Budgets Web site at http://www.whitehouse.gov/omb/grants/spoc.html.

(3) 2008 CRCP Coral Reef Ecosystem Monitoring

Summary Description: The NOAA Coral Reef Monitoring Grant Program, as authorized under the Coral Reef Conservation Act of 2000, provides matching grants to Governor appointed point of contact agencies for the jurisdictions of Puerto Rico, the U.S. Virgin Islands (USVI), Florida, Hawaii, American Samoa, Guam, the Commonwealth of the Northern Mariana Islands (CNMI), the Republic of Palau, the Federated States of Micronesia (including Chuuk, Yap, Kosrae, and Pohnpei), and the Republic of the Marshall Islands to support State and Territory Coral Reef Monitoring activities.

Funding Availability: NCCOS may provide approximately $1,100,000 in funding for FY 2008 to support coral reef ecosystem monitoring activities under this program. FY 2008 awards to Puerto Rico, Florida, U.S. Virgin Islands, Hawaii, American Samoa, Guam, and the Commonwealth of the Northern Mariana Islands are expected to range from $50,000 to $130,000. FY 2008 awards to the Federated States of Micronesia (FSM—including Chuuk, Yap, Kosrae, and Pohnpei), Republic of Palau, and the Republic of the Marshall Islands (RMI) are expected to be approximately $10,000 to $30,000 per year. Funding will be subject to the availability of federal appropriations. FY 2008 grant seekers may submit proposals up to three years in duration, at funding levels specified above (i.e., up to $90,000 for three year proposals for Palau, FSM, and RMI, and up to $390,000 for three year proposals for all other eligible applicants). In certain instances, when requested by the applicant and agreed upon by NOAA, NOAA may hold back a portion of any awarded funds in order to provide specific technical assistance in the form of contractual or other services. This will only be allowed where such priority technical assistance and/or the lack of sufficient means to deliver it are unavailable at the local level. Such requests proposed herein will be reviewed on a case by case basis with respect to the specific management objectives of this and the local coral reef program. If all available funds are not awarded, NOAA will consult with the eligible applicants on the use of any residual funds. NOAA will work with each jurisdiction to ensure the greatest degree of success in meeting local, state, territorial, and national coral reef monitoring needs.

Statutory Authority: 16 U.S.C. 6403.

Catalog of Federal Domestic Assistance (CFDA) Number: 11.426, Financial Assistance for National Centers for Central Coastal Ocean Science.

Application Deadline: Pre-Applications Due: 11/6/2007 Final Applications Due: 02/22/2008.

Address for Submitting Proposals: Pre-applications may be submitted by surface mail or e-mail. Submissions by encrypted e-mail are preferred. If submitting by surface mail, applicants are encouraged to include an electronic copy of the pre-application on disk or CD-ROM. Pre-applications must be sent to coral.grants@noaa.gov or to Jenny Waddell, NOAA National Ocean Service, N/SCI-1, 1305 East-West Highway, Silver Spring, MD 20910. Final applications should be submitted via www.grants.gov, the Federal grants portal.

Information Contacts: The technical point of contact for State and Territory Coral Reef Monitoring is Jenny Waddell. She can be reached at 301-713-3028 extension 174 or by e-mail at jenny.waddell@noaa.gov.

Eligibility: Eligible applicants are limited to a natural resource management agency in each U.S. State or Territory, or Freely Associated State, with jurisdiction over coral reefs, as designated by the respective governors or other applicable senior jurisdictional official. NOAA is requesting proposals from Puerto Rico, Florida, U.S. Virgin Islands, Hawaii, American Samoa, Guam, and Commonwealth of the Northern Mariana Islands, the Federated States of Micronesia, Republic of Palau, and the Republic of the Marshall Islands. Federal agencies are not eligible for funding under this Program.

Furthermore, to be eligible for FY 2008 funding, applicants previously receiving funds under this program must have made significant progress implementing those tasks and met data submission deadlines, including all performance and fiscal reporting requirements and data transfers.

Cost Sharing Requirements: As per section 6403(b)(1) of the Coral Reef Conservation Act of 2000, Federal funds for any coral conservation project funded under this Program may not exceed 50 percent of the total cost of the projects.

Therefore, any coral conservation project under this program requires a 1:1 match. Matching funds must be from non-Federal sources and can include in-kind contributions and other non-cash support. NOAA strongly encourages applicants to leverage as much investment as possible. Federal funds may not be considered as matching funds.

Intergovernmental Review: Applications under this program are not subject to Executive Order 12372, Intergovernmental Review of Federal Programs.

(4) National Estuarine Research Reserve Graduate Research Fellowship Program FY08

Summary Description: The National Estuarine Research Reserve System (NERRS) consists of estuarine areas of the United States and its territories which are designated and managed for research and educational purposes. Each reserve within the system is chosen to reflect regional differences and to include a variety of ecosystem types in accordance with the classification scheme of the national program as presented in 15 CFR part 921. Each reserve supports a wide range of beneficial uses of ecological, economic, recreational, and aesthetic values which are dependent upon the maintenance of a healthy ecosystem. The sites provide habitats for a wide range of ecologically and commercially important species of fish, shellfish, birds, and other aquatic and terrestrial wildlife. Each reserve has been designed to ensure its effectiveness as a conservation unit and as a site for long-term research and monitoring. As part of a national system, the reserves collectively provide an excellent opportunity to address research questions and estuarine management issues of national significance. For detailed descriptions of the sites, refer to the NERR Web site at http://www.nerrs.noaa.gov/fellowship or contact the site staff.

Funding Availability: The National Estuarine Research Reserve System of NOAA announces the availability of graduate research fellowships. The Estuarine Reserves Division anticipates that 25 Graduate Research Fellowships will be competitively awarded to provide funding to qualified graduate students whose research occurs within the boundaries of at least one reserve. Minority students are encouraged to apply. The amount of the fellowship is $20,000; at least 30% of total project cost match is required by the applicant (i.e. $8,572 match for $20,000 in federal funds for a total project cost of $28,572).

Statutory Authority: Section 315 of the Coastal Zone Management Act of 1972, as amended (CZMA), 16 U.S.C. 1461, establishes the National Estuarine Research Reserve System (NERRS). 16 U.S.C. 1461(e)(1)(B) authorizes the Secretary of Commerce to make grants to any coastal state or public or private person for purposes of supporting research and monitoring within a National Estuarine Research Reserve that are consistent with the research guidelines developed under subsection (c).

Catalog of Federal Domestic Assistance (CFDA) Number: 11.420, Coastal Zone Management Estuarine Research Reserves.

Application Deadline: Applications must be no later than 11 pm (EST) November 1, 2007 or postmarked no later than November 1, 2007.

Address for Submitting Proposals: Applications submitted in response to this announcement are strongly encouraged to be submitted through the www.grants.gov web site no later than November 1, 2007 at 11 pm (EST). Electronic access to the full funding announcement for this program is available via the www.grants.gov Web site. The announcement will also be available by contacting Susan White with the Estuarine Reserves Division at Susan.White@noaa.gov or 301-713-3155 x 124. If internet access is not available, paper applications (a signed original and two copies) should be submitted to the Estuarine Reserves Division at the following address postmarked by November 1, 2007: Attn: Dr. Susan White, NOAA/Estuarine Reserves Division, 1305 East-West Highway, Room 10626, Silver Spring, Maryland 20910.

Information Contacts: For questions regarding the program and application process, please contact Susan White (301-713-3155 ext. 124) at NOAA/Estuarine Reserves Division, 1305 East-West Highway, N/ORM5, SSMC4, Station 10626, Silver Spring, MD 20910 or via e-mail: susan.white@noaa.gov, or fax: 301-713-4012. The program Web site can be accessed at http://www.nerrs.noaa.gov/fellowship. If the Web page does not provide sufficient information and Dr. White is unavailable, please contact Erica Seiden at (301) 713-3155 ext. 172 or erica.seiden@noaa.gov. For further information on specific research opportunities at National Estuarine Research Reserves, contact the site staff listed in Appendix I.

Eligibility: Awards are normally made to the fellow's graduate institution through the use of a grant. However, institutions eligible to receive awards include institutions of higher education, other non-profits, commercial organizations, and state and local governments. All reserve staff are ineligible to submit an application for a fellowship under this announcement. Funds are expected to be available on a competitive basis to qualified graduate students for research within a reserve(s) leading to a graduate degree. Applicants must be admitted to or enrolled in a full-time master's or doctoral program at a U.S. accredited university in order to be eligible to apply. Applicants should have completed a majority of their graduate course work at the beginning of their fellowship and have an approved thesis research program. Minority students are encouraged to apply.

Cost Sharing Requirements: Requested federal funds must be matched by at least 30 percent of the TOTAL cost, not the federal share, of the project (i.e. $8,572 match for $20,000 in federal funds for a total project cost of $28,572). Requested overhead costs under fellowship awards are limited to 10% of the federal amount. Waived overhead costs may be used as match.

Intergovernmental Review: Applications under this program are subject to Executive Order 12372, “Intergovernmental Review of Federal Programs.” Applicants should contact their State Single Point of Contact (SPOC) to find out about and comply with the States process under EO12372. The names and addresses of the SPOCs are listed in the Office of Management and Budgets Web site at http://www.whitehouse.gov/omb/grants/spoc.html.

(5) FY08 California Bay Watershed Education and Training Program

Summary Description: The California B-WET grant program, is a competitively based program that supports existing environmental education programs, fosters the growth of new programs, and encourages the development of partnerships among environmental education programs throughout the San Francisco Bay, Monterey Bay, and Santa Barbara Channel watersheds. Funded projects provide Meaningful Watershed Experiences to students and teachers.

Funding Availability: This solicitation announces that approximately $1,650,000 may be available in FY2008 in award amounts to be determined by the proposals and available funds. About $700,000 will be made available to the San Francisco Bay watershed area, $600,000 will be made available to the Monterey Bay watershed area, and about $350,000 will be made available to the Santa Barbara Channel watershed area. The National Marine Sanctuary Program anticipates that approximately 35 grants will be awarded with these funds. The California B-WET Program should not be considered a long-term source of funds; applicants must demonstrate how ongoing programs, once initiated, will be sustained. The National Marine Sanctuary Program anticipates that typical project awards for Meaningful Watershed Experiences and Professional Development in the Area of Environmental Education for Teachers will range from $10,000 to $60,000. Proposals will be considered for funds greater than the specified ranges if there is sufficient demonstration that the project requires additional funds and/or if the proposal includes multiple partners. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: 16 U.S.C. 1440.

Catalog of Federal Domestic Assistance (CFDA) Number: 11.429, Marine Sanctuary Program.

Application Deadline: Proposals must be received by 5 p.m. Pacific Standard time October 9, 2007.

Address for Submitting Proposals: Applicants are strongly encouraged to submit applications electronically through http://www.grants.gov. If internet access is not available, paper applications, a signed original and 2 copies (submission of ten additional hard copies is strongly encouraged to expedite the review process, but it is not required) may be submitted to Attn: Seaberry Nachbar, B-WET Program Manager, Monterey Bay National Marine Sanctuary Office, 299 Foam Street, Monterey, CA 93940. The closing deadline for applying through grants.gov is the same as for the paper submission noted in this announcement.

Information Contacts: Please visit the National Marine Sanctuaries B-WET Web site for further information at: http://sanctuaries.noaa.gov/BWET or contact Seaberry Nachbar, Monterey Bay National Marine Sanctuary office; 299 Foam Street, Monterey, CA 93940, or by phone at 831-647-4201, or fax to 831-647-4250, or via Internet at seaberry.nachbar@noaa.gov.

Eligibility: Eligible applicants are K-through-12 public and independent schools and school systems, institutions of higher education, nonprofit organizations, state or local government agencies, and Indian tribal governments. The Department of Commerce/National Oceanic and Atmospheric Administration (DOC/NOAA) is strongly committed to broadening the participation of historically black colleges and universities, Hispanic serving institutions, tribal colleges and universities, and institutions that service undeserved areas.

The National Marine Sanctuary Program encourages proposals involving any of the above institutions.

Cost Sharing Requirements: No cost sharing is required under this program; however, the National Marine Sanctuary Program strongly encourages applicants applying for either area of interest to share as much of the costs of the award as possible. Funds from other Federal awards may not be considered matching funds. The nature of the contribution (cash versus in-kind) and the amount of matching funds will be taken into consideration in the review process with cash being the preferred method of contribution.

Intergovernmental Review: Applications under this program are not subject to Executive Order 12372, Intergovernmental Review of Federal Programs.

(6) Bay Watershed Education and Training (B-WET) Program, Hawaii

Summary Description: The B-WET Hawaii Programs Grant Opportunity is an annually awarded, competitively-based grant that provides initial funding to: (1) Assist in the development of new programs; (2) encourage innovative partnerships among environmental education programs throughout Hawaii; (3) support geographically targeted programs to advance environmental education efforts that complement appropriate school requirements.

The program supports NOAAs goal of developing a well-informed citizenry involved in decision-making that positively impact our coastal, marine and watershed ecosystems.

Funded projects provide meaningful science-based outdoor experiences for K-12 students and professional development opportunities for teachers in the area of environmental education as defined in this announcement.

Funding Availability: This solicitation announces that approximately $1,000,000 may be available in FY 2008 in award amounts to be determined by the proposals and available funds. The NOAA Pacific Services Center anticipates that approximately 5 to 15 grants will be awarded with these funds, pending availability of funds. Applicants are hereby given notice that funds have not yet been appropriated for this program. It is anticipated that typical project awards for Priority 1 and 2 will range from approximately $10,000 to $100,000. Applications requesting Federal support from NOAA of more than $100,000 total will not be considered for review or funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government.

Notwithstanding verbal or written assurance that may have been received, there is no obligation on the part of NOAA to cover pre-award costs unless approved by the Grants Officer as part of the terms when the award is made.

Statutory Authority: 15 U.S.C. 1540; 33 U.S.C. 883d.

Catalog of Federal Domestic Assistance (CFDA) Number: 11.473, Coastal Services Center.

Application Deadline: Full proposals must be received through Grants.gov no later than 11 p.m. ET/5 p.m. Hawaii time, August 15, 2007. If applicants do not have Internet access and submit through surface mail, full proposals must be received no later than 11 p.m. ET/5 p.m. Hawaii time, August 15, 2007.

Address for Submitting Proposals: Full proposal application packages should be submitted through Grants.gov/APPLY. The standard NOAA funding application package is available at www.grants.gov. Please be advised that potential funding applicants must register with Grants.gov before any application materials can be submitted. An organization's one time registration process may take up to three weeks to complete so please allow sufficient time to ensure applications are submitted before the closing date. The Grants.gov site contains directions for submitting an application, the application package (forms), and is also where the completed application is submitted. If the applicant has difficulty downloading the required forms, the applicant should contact the Grants.gov Customer Support at 1-800-518-4726 or support@grants.gov. Additional information about registering and submitting an application through Grants.gov may be found at www.Grants.gov and at the B-WET Hawaii Web page at http://www.csc.noaa.gov/psc/bwet.html.

Applicants using Grants.gov must locate the downloadable application package for this solicitation by the Funding Opportunity Number or the CFDA number (11.473).

Applicants will be able to download a copy of the application package, complete it off line, and then upload and submit the application via the Grants.gov site. After electronic submission of the application, the person submitting the application will receive within the next 24 to 48 hours two e-mail messages from Grants.gov updating them on the progress of their application. The first e-mail will confirm receipt of the application by the Grants.gov system, and the second will indicate that the application has either been successfully validated by the system prior to transmission to the grantor agency or has been rejected due to errors. After the application has been validated, this same person will receive another e-mail when the application has been downloaded by the federal agency. To use Grants.gov, applicants must have a Dun and Bradstreet Data Universal Numbering System (DUNS) number and be registered in the Central Contractor Registry (CCR). Allow a minimum of five days to complete the CCR registration. (Note: Your organization's Employer Identification Number (EIN) will be needed on the application form.) With regard to rural areas for an applicant who does not have Internet access, application kits may be requested from Sam Thomas, Federal Program Officer for grants at 808-532-3960. These applicants are asked to mail one (1) hard copy of the entire application package, a CD copy of the package, including all forms with original signatures to the following address: NOAA Pacific Services Center, 737 Bishop Street, Suite 1550, Honolulu, Hawaii 96813, ATTN: Sam Thomas. The postmark will be used to determine the timeliness of the proposal.

Hand-delivered, facsimile transmissions and electronic mail submissions and proposals received after the deadline will not be accepted.

Information Contacts: For administrative issues and technical questions, please contact Sam Thomas, Federal Program Officer for Grants, NOAA Pacific Services Center office; 737 Bishop Street, Mauka Tower, Suite 1550, Honolulu, HI 96813-3212, or by phone at (808) 532-3960, or via e-mail at Sam.Thomas@noaa.gov.

Eligibility: Eligible applicants for Priority 1 and 2 are K-12 public and independent schools and school systems, institutions of higher education, commercial and nonprofit organizations, state or local government agencies, and Indian tribal governments. Applicants that are not eligible are individuals and Federal agencies. The Department of Commerce/National Oceanic and Atmospheric Administration (DOC/NOAA) is strongly committed to broadening the participation of historically Black colleges and universities, Hispanic-serving institutions, Tribal colleges and universities, Alaskan Native and Native Hawaiian institutions, and institutions that service undeserved areas.

Cost Sharing Requirements: No cost sharing is required under this program, however, the NOAA Pacific Services Center strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, Intergovernmental Review of Federal Programs.

(7) CSCOR FY08 Regional Ecosystem Prediction Program

Summary Description: The purpose of this document is to advise the public that NOAA/NOS/NCCOS/CSCOR is soliciting proposals for three separate regional ecosystem prediction projects on Invasive Species in the Great Lakes—A Regional Scale Approach, Cumulative Impacts of Stressors at the Land-Water Interface in the Mid-Atlantic and Ecosystem Goal-Setting in Coastal Waters and Reefs of South Florida; for the Great Lakes and Mid-Atlantic programs, projects will be of up to 5 years in duration. In the Great Lakes, proposals are requested for a regional-scale ecosystem research study investigating recent and future changes in water quality, habitats and populations of living resources in the context of invasive species. For the Mid-Atlantic region, proposals are requested for a regional-scale ecosystem research study investigating the cumulative impacts of multiple stressors at the land-water interface of estuaries and bays on recreationally, economically or ecologically important living resource populations and communities. Proposals for these two programs should be regional in scale, interdisciplinary, comprehensive, integrated, and multiple investigator to develop capabilities for innovative forecasts and predictions for improved management and control capabilities. For the South Florida program, proposals will be 2-3 years in duration. In the South Florida program, proposals are solicited to develop, undertake and conclude a consensus-building process that results in scientifically-based quantifiable goals for aquatic resources and habitats of the Florida Bay and Keys. Proposals should include a diverse and comprehensive team of managers, scientists and NGOs and be regional in scope. Proposals submitted to this solicitation should not have overlap with other active NCCOS/CSCOR programs including the Coastal Hypoxia Research Program (CHRP), Ecology and Oceanography of Harmful Algal Blooms (ECOHAB), Monitoring and Event Response for Harmful Algal Blooms (MERHAB), and the Ecological Effects of Sea Level Rise or previously awarded grants (see http://www.cop.noaa.gov for program descriptions). Funding is contingent upon the availability of Fiscal Year 2008 Federal appropriations. It is anticipated that final recommendations for funding under this announcement will be made by April 2008 and that projects funded under this announcement will have a June through August start date.

Electronic Access: Background information about the NCCOS/CSCOR efforts can be found at http://www.cop.noaa.gov. Proposals should be submitted through Grants.gov (http://www.grants.gov.)

Funding Availability: Funding is contingent upon availability of Federal appropriations. NOAA is committed to continual improvement of the grants process and accelerating the award of financial assistance to qualified recipients in accordance with the recommendations of the Business Process Reengineering Team. In order to fulfill these responsibilities, this solicitation announces that award amounts will be determined by the proposals and available funds. Funds for the Invasive Species in the Great Lakes—A Regional Scale Approach and for the Cumulative Impacts of Stressors at the Land-Water Interface in the Mid-Atlantic programs typically will not exceed $500,000-$1,000,000 per project per year, exclusive of ship costs. It is anticipated that 1-3 projects will be awarded for each of these two programs with project duration of 3 to 5 years. The Ecosystem Goal-Setting in Coastal Waters and Reefs of South Florida program is expected to have a project duration of 2 to 3 years with funds not to exceed $500,000 per project per year. It is anticipated that 1 project will be awarded for this program. Support in out years after FY 2008 is contingent upon the availability of funds.

Applicants are hereby given notice that funds have not yet been appropriated for this program. In no event will NOAA or the Department of Commerce be responsible for proposal preparation costs if this program fails to receive funding or is cancelled because of other agency priorities. There is not guarantee that sufficient funds will be available to make awards for all qualified projects.

Publication of this notice does not obligate NOAA to award any specific project or to obligate any available funds. If one incurs any costs prior to receiving an award agreement signed by an authorized NOAA official, one would do so solely at one's own risk of these costs not being included under the award. Publication of this notice does not obligate any agency to any specific award or to obligate any part of the entire amount of funds available.

Recipients and subrecipients are subject to all Federal laws and agency policies, regulations and procedures applicable to Federal financial assistance awards.

Statutory Authority: For Invasive Species in the Great Lakes—A Regional Scale Approach and the Cumulative Impacts of Stressors at the Land-Water Interface in the Mid-Atlantic, the program authority is 16 U.S.C. 1456c. For Ecosystem Goal-Setting in Coastal Waters and Reefs of South Florida, the program authority is 33 U.S.C. 1442.

Catalog of Federal Domestic Assistance (CFDA) Number: 11.478, Center for Sponsored Coastal Ocean Research—Coastal Ocean Program.

Application Deadline: The deadline for receipt of proposals at the NCCOS/CSCOR office is 3 p.m., Eastern Time for each of the three program elements for the Regional Ecosystem Prediction Program. Invasive Species in the Great Lakes—A Regional Scale Approach October 1, 2007, Cumulative Impacts of Stressors at the Land-Water Interface in the Mid-Atlantic October 15, 2007, Ecosystem Goal-Setting in Coastal Waters and Reefs of South Florida October 29, 2007.

Address for Submitting Proposals: Proposals must include evidence of linkages between the scientific questions and management needs, such as the participation of co-investigators from both scientific and management entities. Proposals previously submitted to NCCOS/CSCOR FFOs and not recommended for funding must be revised and reviewer or panel concerns addressed before resubmission. Resubmitted proposals that have not been revised will be returned without review.

Information Contacts: Technical Information. Program Managers contact information is: Invasive Species in the Great Lakes A Regional Approach, Felix Martinez (felix.martinez@noaa.gov, 301-713-3338 x 153); Cumulative Impacts of Stressors at the Land-Water Interface in the Mid-Atlantic, Elizabeth Turner (elizabeth.turner@noaa.gov, 603-862-4680) and; Ecosystem Goal-Setting in Coastal Waters and Reefs of South Florida, Larry Pugh (larry.pugh@noaa.gov, 301-713-3338 x 160). Business Management Information: Laurie Golden, NCCOS/CSCOR Grants Administrator, 301-713-3338/ext 151, Internet: Laurie.Golden@noaa.gov.

Eligibility: Eligible applicants are institutions of higher education, other non-profits, states, local governments, commercial organizations and Federal agencies that possess the statutory authority to receive financial assistance. Please note that: (1) NCCOS/CSCOR will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) Non-NOAA Federal applicants will be required to submit certifications or documentation showing that they have specific legal authority to receive funds from the Department of Commerce (DOC) for this research. (4) NCCOS/CSCOR will accept proposals that include foreign researchers as collaborators with a researcher who has met the above stated eligibility requirements. (5) Non-Federal researchers affiliated with NOAA-University Cooperative/Joint Institutes should comply with joint institutional requirements; they will be funded through grants either to their institutions or to joint institutes.

Cost Sharing Requirements: None.

Intergovernmental Review: Applications under this program are not subject to Executive Order 12372, Intergovernmental Review of Federal Programs. It has been determined that this notice is not significant for purposes of Executive Order 12866. Pursuant to 5 U.S.C. 553(a)(2), an opportunity for public notice and comment is not required for this notice relating to grants, benefits and contracts. Because this notice is exempt from the notice and comment provisions of the Administrative Procedure Act, a Regulatory Flexibility Analysis is not required, and none has been prepared. It has been determined that this notice does not contain policies with Federalism implications as that term is defined in Executive Order 13132.

(8) Dr. Nancy Foster Scholarship Program

Summary Description: The Dr. Nancy Foster Scholarship Program provides support for independent graduate-level studies in oceanography, marine biology or maritime archaeology (including all science, engineering, and resource management of ocean and coastal areas), particularly to women and minorities. Individuals who have been accepted into a graduate program and are U.S. citizens may apply. Scholarship selections are based on academic excellence, letters of recommendations, research and career goals, and financial need. Additional information about the scholarship can be obtained from the Web site: http://www.fosterscholars.noaa.gov. The program priorities for this opportunity support NOAA’s mission support goal of: Critical support—facilities, ships, aircraft, environmental satellites, data-processing systems, computing and communications systems.

Funding Availability: Subject to appropriations, approximately $500,000 will be available for FY 2008. Approximately 5 to 10 new awards may be made, based on the availability of funds. The Dr. Nancy Foster Scholarship Program provides yearly support of up to $32,000 per student (a 12-month stipend of $20,000 in addition to a tuition allowance of up to $12,000), and up to $20,000 support for a four to six week research collaboration at a NOAA facility. A maximum of $84,000 may be provided to masters students (up to 2 years of support and one research collaboration opportunity) and up to $168,000 may be provided to doctoral students (up to 4 years of support and two research collaboration opportunities). Dr. Nancy Foster Scholarship Program recipients will also travel to Silver Spring, MD, for a mandatory NOAA orientation and to meet with leadership and staff from the National Marine Sanctuaries Program from May 26 to May 31, 2008. Awards will include travel expenses to attend the Scholarship Program orientation.

Statutory Authority: 16 U.S.C. 1445c-1.

Catalog of Federal Domestic Assistance (CFDA) Number: 11.429, Marine Sanctuary Program.

Application Deadline: Completed applications must be received by the Program Manager between December 1, 2007 and February 8, 2008, at 5 p.m. Eastern Standard Time.

Address for Submitting Proposals: Applicants should submit their application via Grants.gov. Only those applicants who do not have access to the internet should submit a hard copy application. If a hard copy application is necessary, it should be sent to the Dr. Nancy Foster Scholarship Program, Attention: Priti Brahma, NOAA Office of Education, Room 10725, 1315 East-West Highway, Silver Spring, MD 20910 by 5 p.m. Eastern Standard Time.

Information Contacts: Send requests for information to fosterscholars@noaa.gov or mail requests to the attention of Priti Brahma, Dr. Nancy Foster Scholarship Program, Office of Education, 1315 East-West Highway, Room 10725, Silver Spring, MD 20910.

Eligibility: Only individuals who are United States citizens currently pursuing a masters or doctoral level degree in oceanography, marine biology or maritime archaeology (including all science, engineering, and resource management of ocean and coastal areas) are eligible for an award under this scholarship program. In addition, students must have and maintain a cumulative and term grade point average of 3.0 and maintain full-time student status every term for the duration of their award. Universities or other organizations may not apply on behalf of an individual. Prospective scholars do not need to be enrolled, but must be admitted to a graduate level program in order to apply for this scholarship. Eligibility must be maintained for each succeeding year of support and semi-annual reporting requirements, to be specified at a later date, will apply.

Cost Sharing Requirements: There are no matching requirements for this award.

Intergovernmental Review: Applications under this program are not subject to Executive Order 12372, Intergovernmental Review of Federal Programs.

(9) FY 2008 Implementation of Regional Integrated Ocean Observing Systems

Summary Description: The Integrated Ocean Observing System (IOOS) will efficiently link national and regional observations, data management, and modeling to provide required data and information on local to global scales. Regional coastal ocean observing systems (RCOOSs) are designed to complement the observing systems managed directly by federal agencies that meet national priorities. With the guidance of Regional Associations to understand regional priorities, RCOOSs provide the types of data, information, and products needed to address the estuarine and coastal issues experienced by the different regions, and to leverage the delivery and applicability of data collected by local data network nodes. NOAA views this announcement as an opportunity to demonstrate the regional observing system concept. To assist in the implementation of the regional component of IOOS, NOAA seeks proposals for one- to two-year grant or cooperative agreement projects, with an optional third year, that will result in a regional system that has been optimized to provide data and products that are tailored to regional needs. The regional system will provide data and information in forms and at rates designed to meet the needs of regional decision makers. To accomplish that task, the regional system will integrate existing observing system components, prioritize additional observing system acquisition, and construct products and data management processes to deliver data and information to the regional stakeholders for the benefit of the region. Proposals submitted will demonstrate the approach and benefits of integration and implementation at the scale of the Regional Association and should address the following: a) Regional deployment, operation and maintenance of sensors and platforms to address needs for data and information that have been clearly articulated by the Regional Associations as representative of their stakeholders. b) Regional participation in developing a data integration framework for data streams, quality assurance procedures, and data delivery. c) Generation of regional or appropriately-scaled products, including data and model output, that facilitate the development of value-added, targeted products for identified users. NOAA anticipates making multiple awards in response to this announcement. The program priorities for this opportunity support NOAA's mission support goal of: Weather and Water Serve Society's Needs for Weather and Water Information. Other goals are supported, but this is the goal the opportunity most closely addresses.

Funding Availability: Total anticipated funding for all awards is approximately $25,000,000 and is subject to the availability of FY 2008 appropriations. Multiple awards are anticipated from this announcement. The anticipated federal funding per award (min-max) is approximately $500,000 to $3,500,000 per year. The anticipated number of awards ranges from four (4) to ten (10), approximately, and will be adjusted based on available funding.

Statutory Authority: Statutory authority for this program is provided under Coastal Zone Management Act, 16 U.S.C. 1456c (Technical Assistance); 33 U.S.C. 883d; and 33 U.S.C. 1442 (Research program investigating possible long-range effects of pollution, overfishing, and anthropogenically-induced changes of ocean ecosystems).

Catalog of Federal Domestic Assistance (CFDA) Number: 11.473, Coastal Services Center.

Application Deadline: Letters of Intent (LOIs) must be received by the Coastal Services Center by 5 p.m. ET on September 12, 2007. Full proposals must be received by 5 p.m. ET, November 15, 2007.

Address for Submitting Proposals: A letter of intent (LOI) must be sent via e-mail to IOOSfy2008@noaa.gov. Applicants submitting a LOI should reference the Funding Opportunity Title (FY 2008 Implementation of Regional Integrated Ocean Observing Systems) as the subject line of the e-mail containing the LOI. If an applicant does not have Internet access, the applicant must submit through surface mail one original and two copies of the LOI to the Coastal Services Center. No fax copies will be accepted. LOIs submitted by mail must be received by NOAA Coastal Services Center no later than 5 p.m. ET, September 12, 2007. Any U.S. Postal Service correspondence should be sent to the attention of James Lewis Free, NOAA Coastal Services Center, 2234 South Hobson Avenue, Charleston, South Carolina 29405-2413. Full proposal application packages should be submitted through Grants.gov. If an applicant does not have Internet access, the applicant must submit through surface mail one set of originals (signed) and two copies of the proposals and related forms to the Coastal Services Center. Full proposal application packages submitted by mail must be received by NOAA Coastal Services Center no later than 5 p.m. ET, November 15, 2007. Any U.S. Postal Service correspondence should be sent to the attention of James Lewis Free, NOAA Coastal Services Center, 2234 South Hobson Avenue, Charleston, South Carolina 29405-2413.

Information Contacts: For administrative questions, contact James Lewis Free, NOAA CSC; 2234 South Hobson Avenue, Room B-119, Charleston, South Carolina 29405-2413; or by phone at 843-740-1185, or by fax 843-740-1290, or via e-mail at James.L.Free@noaa.gov. For technical questions regarding this announcement, contact: Mary Culver, NOAA CSC; 2234 South Hobson Avenue, Charleston, South Carolina 29405-2413; or by phone at 843-740-1250, or by fax 843-740-1298, or via e-mail at Mary.Culver@noaa.gov; or Geno Olmi, NOAA CSC; 2234 South Hobson Avenue, Room 1-132, Charleston, South Carolina 29405-2413; or by phone at 843-740-1230, or by fax 843-740-1313, or via e-mail at Geno.Olmi@noaa.gov.

Eligibility: Eligible funding applicants are institutions of higher education, non-profit and for-profit organizations, and state, local and Indian tribal governments. Federal agencies or institutions and foreign governments may not be the primary recipient of awards under this announcement, but are encouraged to partner with applicants when appropriate. Federal partners must identify the relevant statutory authorities that will allow for the receipt of funds. If applicants will have partners who would receive grant funds, the lead grantee will be expected to provide funds using subcontracts or other appropriate mechanisms to the project partners. If the partners are federal agencies other than NOAA, the grantee and the federal partner must use interagency agreements or otherwise take steps relevant to their organizations to ensure that funds can be transferred by the primary grantee and received by any federal partners. If a federal partner is a NOAA office, the funds will be transferred internally. Before non-NOAA Federal applicants may be funded, they must demonstrate that they have legal authority to accept funds in excess of their appropriation. Because of the nature of this competition, the Economy Act (31 U.S.C. 1535) is not an appropriate authority.

Cost Sharing Requirements: There is no requirement for cost sharing.

Intergovernmental Review: Funding applications under the Center are subject to Executive Order 12372, Intergovernmental Review of Federal Programs. It is the state agency's responsibility to contact their states Single Point of Contact (SPCO) to find out about and comply with the states process under EO 12372. To assist the applicant, the names and addresses of the SPOCs are listed on the Office of Management and Budget's Web site http://www.whitehouse.gov/omb/grants/spoc.html.

(10) FY 2008 Integrated Ocean Observing System Regional Association Support

Summary Description: The Integrated Ocean Observing System Development Plan (OceanUS, 2006) calls for an integrated system of observations that support national and regional priorities. Regional priorities are to be determined by a comprehensive effort to engage stakeholders at the local and regional level. The responsibility for such engagement is directed to IOOS Regional Associations. With the guidance of Regional Associations to understand regional priorities and coordinate regional observing implementation, regional coastal ocean observing systems RCOOSs provide the types of data, information, and products needed to address the estuarine and coastal issues experienced by the different regions. IOOS Regional Associations provide the network and organization to ensure that local and regional data collection meets national as well as local needs. For the past few years, NOAA has been funding entities, through competitively awarded cooperative agreements, to engage stakeholders in the formation of IOOS Regional Associations. Proposals submitted under this announcement will further engage stakeholders in the formalization of the IOOS Regional Association. Projects funded under this announcement are expected to build on previous progress of the IOOS Regional Association and engage stakeholders in the conduct of the regional association, design a regional system to optimize deployment to meet regional needs, and coordinate with stakeholders (data providers, information users, and other interested parties) to achieve a unified network of data acquisition, management, and product development. The program priorities for this opportunity support NOAAs mission support goal of: Weather and Water Serve Society's Needs for Weather and Water Information. Other goals are supported, but this is the goal the opportunity most closely addresses.

Funding Availability: Total anticipated funding for all awards is approximately $4,500,000 and is subject to the availability of FY 2008 and FY 2009 appropriations. Multiple awards are anticipated from this announcement. The anticipated federal funding per award (min-max) is $300,000 to $400,000 per year. The anticipated number of awards is approximately eleven (11).

Statutory Authority: Statutory authority for this program is provided under Coastal Zone Management Act, 16 U.S.C. 1456c (Technical Assistance); 33 U.S.C. 883d; and 33 U.S.C. 1442 (Research program investigating possible long-range effects of pollution, overfishing, and anthropogenically-induced changes of ocean ecosystems).

Catalog of Federal Domestic Assistance (CFDA) Number: 11.473, Coastal Services Center.

Application Deadline: Proposals must be received by no later than 5 p.m. ET, August 22, 2007.

Address for Submitting Proposals: Proposal application packages should be submitted through Grants.gov. The standard NOAA funding application package is available at http://www.grants.gov. If an applicant does not have Internet access, the applicant must submit through surface mail one set of originals (signed) and two copies of the proposals and related forms to the Coastal Services Center. No e-mail or fax copies will be accepted. Any U.S. Postal Service correspondence should be sent to the attention of Lisa Holmes, NOAA Coastal Services Center, 2234 South Hobson Avenue, Charleston, South Carolina 29405-2413.

Information Contacts: For administrative questions, contact Lisa Holmes, NOAA CSC, 2234 South Hobson Avenue, Room 1-141, Charleston, South Carolina 29405-2413, or by phone at 843-740-1256, or by fax 843-740-1313, or via e-mail at Lisa.Holmes@noaa.gov. For technical questions regarding this announcement, contact Geno Olmi, NOAA CSC, 2234 South Hobson Avenue, Room 1-132, Charleston, South Carolina 29405-2413, or by phone at 843-740-1230, or by fax 843-740-1313, or via e-mail at Geno.Olmi@noaa.gov.

Eligibility: Eligible funding applicants are institutions of higher education, non-profit and for-profit organizations, and state, local and Indian tribal governments. Federal agencies or institutions and foreign governments may not be the primary recipient of awards under this announcement, but are encouraged to partner with applicants when appropriate. Federal partners must identify the relevant statutory authorities that will allow for the receipt of funds. If applicants will have partners who would receive grant funds, the lead grantee will be expected to provide funds using subcontracts or other appropriate mechanisms to the project partners. If the partners are federal agencies other than NOAA, the grantee and the federal partner must use interagency agreements or otherwise take steps relevant to their organizations to ensure that funds can be transferred by the primary grantee and received by any federal partners. If a federal partner is a NOAA office, the funds will be transferred internally. Before non-NOAA Federal applicants may be funded, they must demonstrate that they have legal authority to accept funds in excess of their appropriation. Because of the nature of this competition, the Economy Act (31 U.S.C. 1535) is not an appropriate authority.

Cost Sharing Requirements: N.A.

Intergovernmental Review: Funding applications under the Center are subject to Executive Order 12372, Intergovernmental Review of Federal Programs. It is the state agency's responsibility to contact their states Single Point of Contact (SPCO) to find out about and comply with the states process under EO 12372. To assist the applicant, the names and addresses of the SPOCs are listed in the Office of Management and Budgets home page at http://www.whitehouse.gov/omb/grants/spoc.html.

(11) FY 2008 Oceans and Human Health Initiative, External Grants Program

Summary Description: This funding opportunity is offered as part of NOAAs Oceans and Human Health Initiative (OHHI) External Grants Program. The OHHI was established by the Secretary of Commerce pursuant to the Oceans and Human Health Act of 2004 and by the recognition of the Undersecretary of Commerce for Oceans (NOAA Administrator) that a national investment in research on oceans and human health would improve understanding of ocean and coastal ecosystems, allow prediction and prevention of ocean and coastal public health problems, and assist in realizing the potential of the oceans to contribute to the development of effective new treatments for human diseases and a greater understanding of human biology. The mission of the OHHI is to improve understanding and management of the ocean, coasts and Great Lakes to enhance benefits to human health and reduce public health risks. Toward that end, as the nations lead ocean agency, NOAAs OHHI investigates the relationship between environmental stressors, coastal condition and human health to maximize health benefits from the oceans, improve the safety of seafood and drinking waters, reduce beach closures, and detect emerging health threats. This funding opportunity is intended to engage the non-federal research community in research across the physical, chemical, biological, medical, public health and social sciences on priority issues for the OHHI. The specific priority areas for this funding opportunity are: (1) Develop methods, tools, and technologies to identify, detect, or predict ocean-related public health risks from pathogens and chemical pollutants; (2) Assess the economic and socio-cultural risk of ocean-related health threats from pathogens or chemical pollutants, and the benefits and value of health early warning systems or related information; (3) Improve the healthful characteristics and minimize ocean-related contamination of seafood through either aquaculture techniques or tools to rapidly identify presence or virulence of toxins (e.g., ciguatera, domoic acid), chemical contaminants (including but not limited to pharmaceuticals and personal care products, flame retardants, current-use pesticides, surfactants and stain repellants), or pathogens. Research proposed under this priority area should engage public health and natural resource managers and decision-makers in order to optimize relevance of the proposed research for the development and delivery useful products and services. Links to ocean observing systems and their enabling regional governance structures or public health surveillance systems are strongly encouraged. The program priorities for this opportunity support NOAAs mission support goal of: Ecosystems To Protect, Restore, and Manage the Use of Coastal and Ocean Resources through an Ecosystem Approach to Management. Other goals are supported, but this is the goal the opportunity most closely addresses.

Funding Availability: Total anticipated funding for all awards is expected to be between $1,000,000 and $5,000,000 and is subject to the availability of FY 2008 appropriations for the OHHI. Multiple awards are anticipated from this announcement. The anticipated federal funding per award (min-max) is $100,000 to $1,000,000. The anticipated number of awards ranges from 7 to 14, approximately, and will be adjusted based on available funding.

Statutory Authority: 31 U.S.C. 3102(d).

Catalog Of Federal Domestic Assistance (CFDA) Number: 11.473, Coastal Services Center.

Application Deadline: Letters of Intent (LOIs) must be received by 5 p.m. ET on August 15, 2007. Full proposals must be received by 5 p.m. ET, November 15, 2007.

Address for Submitting Proposals: LOIs must be sent via e-mail to OHHI2008LOI@noaa.gov. Funding applicants submitting a LOI should reference the Funding Opportunity Title (FY 2007 OHHI External Grant-LOI) as the subject line of the e-mail containing the LOI. Applicants submitting more than one LOI must submit separate e-mails containing each LOI. The lead PI identified in the LOI cover page should be from the organization that would receive the grant award. If an applicant does not have Internet access, the applicant must submit through surface mail one original and two copies of the LOI to the Coastal Services Center. No fax copies will be accepted. LOIs submitted by mail must be received by NOAA Coastal Services Center no later than 5 p.m. ET, September 12, 2007. Any U.S. Postal Service correspondence should be sent to the attention of James Lewis Free, NOAA Coastal Services Center, 2234 South Hobson Avenue, Charleston, South Carolina 29405-2413. Full proposal application packages should be submitted through Grants.gov APPLY. If an applicant does not have Internet access, the applicant must submit through surface mail one set of originals (signed) and two copies of the proposals and related forms to the Coastal Services Center. No e-mail or fax copies will be accepted. Full proposal application packages submitted by mail must be received by NOAA Coastal Services Center no later than 5 p.m. ET, November 15, 2007. Any U.S. Postal Service correspondence should be sent to the attention of James Lewis Free, NOAA Coastal Services Center, 2234 South Hobson Avenue, Charleston, South Carolina 29405-2413. All proposal package material must be submitted through Grants.gov or through surface mail by the submission deadline, including any letters of support.

Information Contacts: For administrative questions, contact James Lewis Free, NOAA CSC; 2234 South Hobson Avenue, Room B-119, Charleston, South Carolina 29405-2413; or by phone at 843-740-1185, or by fax 843-740-1290, or via e-mail at James.L.Free@noaa.gov. For technical questions regarding this announcement, contact Paul A. Sandifer, NOAA, National Ocean Service, c/o Hollings Marine Laboratory; 331 Fort Johnson Road, Room A112; Charleston, SC 29412, or by phone at 843-762-8814, or by fax 843-762-8737, or via e-mail at Paul.Sandifer@noaa.gov.

Eligibility: Eligible funding applicants are institutions of higher education, non-profit and for-profit organizations, international organizations, and state, local and Indian tribal governments. Federal agencies or institutions and foreign governments may not be the recipient of awards under this announcement or receive any federal funds, but are encouraged to partner with applicants. If applicants will have partners who would receive grant funds, the lead grantee will be expected to move funds using subcontracts or other appropriate mechanisms to the project partners.

Cost Sharing Requirements: There is no requirement for cost sharing.

Intergovernmental Review: Funding applications under the Center are subject to Executive Order 12372, Intergovernmental Review of Federal Programs. It is the state agencys responsibility to contact their states Single Point of Contact (SPCO) to find out about and comply with the states process under EO 12372. To assist the applicant, the names and addresses of the SPOCs are listed in the Office of Management and Budgets home page at http://www.whitehouse.gov/omb/grants/spoc.html.

(12) International Coral

Summary Description: The NOAA Coral Reef Conservation Grant Program, as authorized under the Coral Reef Conservation Act of 2000, provides matching grants of financial assistance for international coral reef conservation projects. The Program solicits proposals under four funding categories: (1) Promote Watershed Management in the Wider Caribbean, Brazil, and Bermuda; (2) Regional Enhancement of Marine Protected Area Management Effectiveness; (3) Encourage the Development of National Networks of Marine Protected Areas in the Wider Caribbean, Bermuda, Brazil, Southeast Asia, and the South Pacific; and (4) Promote Regional Socio—Economic Training and Monitoring in Coral Reef Management in the Wider Caribbean, Brazil, Bermuda, the Western Indian Ocean, the Red Sea, the South Pacific, South Asia, and Southeast Asia. Each funding category has specific applicant and project eligibility criteria.

Funding Availability: NOAA announces the availability of up to $500,000 in FY 2008 to support grants and cooperative agreements under the International Coral Reef Grant Program. These funds will be used to support financial assistance awards under the program categories listed in section IV. Applicants that are invited to submit a final application may be requested to revise award objectives, work plans, or budgets prior to submittal of the final application. The amount of funds to be awarded and the final scope of activities will be determined in pre-award negotiations among the applicant, NOAA Grants Management Division (GMD) and relevant NOAA staff. Up to approximately $500,000 may be available in FY 2008 to support grants and cooperative agreements under this program. Approximately $75,000-$100,000 may be allocated to each of the four project categories listed below, with the following award ranges: 1. Watershed Management: $30,000-$50,000 2. Regional Management Effectiveness capacity building projects: up to $80,000 3. MPA National Networks: $40,000-$50,000 4. Regional Socio—Economic Monitoring projects: $15,000-$35,000 Pre- and final applications with requests over the limit of each category will NOT be accepted. Pre- and final applications must be submitted under only one of the above mentioned categories. Funding will be subject to the availability of federal appropriations. Support in outyears after FY 2008 is contingent upon the availability of funds. Applicants should never begin a project in expectation of funds under this program. IPO reserves the right to transfer any given proposal to another category within the International program if the proposal better addresses the criteria of another category.

Statutory Authority: Authority for the NOAA Coral Reef Conservation Grant Program is provided by Section 6403 (Coral Reef Conservation Program) of the Coral Reef Conservation Act of 2000 (16 U.S.C. 6401 et seq.).

Catalog of Federal Domestic Assistance (CFDA) Number: 11.463, Habitat Conservation.

Application Deadline: Pre-applications must be received by NOAA by 11:59 p.m., U.S. Eastern Time, on Tuesday, Nov. 6, 2007. Final applications must be received by NOAA by 11:59 p.m. U.S. Eastern Time, on Friday, Feb. 22, 2008.

Address for Submitting Proposals: The application process required by this FFO requires both a pre-application and final application, subject to the submission dates and times listed below. 1. Pre-application Submission Information Pre-applications may be submitted by surface mail or e-mail. Submissions by e-mail to coral.grants@noaa.gov are preferred. Electronic acceptable formats are limited to Adobe Acrobat (.PDF), WordPerfect or Microsoft Word files. If submitting by surface mail, applicants are encouraged to include an electronic copy of the pre-application or final application on disk or CD. Federal financial assistance forms are not required to be submitted with the pre-application. Paper pre-applications must be submitted to: David Kennedy, NOAA Coral Reef Conservation Program Coordinator, Office of Response and Restoration, N/ORR, Room 10102, NOAA National Ocean Service, 1305 East-West Highway, Silver Spring, MD 20910. Fax submittals will also be accepted for pre-applications (Fax: 301-713-4389). 2. Final Application Submission Information: Applicants who are invited to submit a final application may be required to make modifications or revisions to the project and budget narratives and must submit a Federal financial assistance award application package (federal forms described below). Only applicants who submitted pre-applications by the deadline will be eligible to be considered for invitations to submit a final application. The applicant may submit the final application (narratives, federal forms, and supporting documentation) in one of two ways: a. The preferred method is www.grants.gov: applicants will be strongly encouraged to submit the final applications through this secure Web site and guidance will be sent to those who will be chosen to submit a final application. Applicants are encouraged to log on to this portal Web site and begin a registration process at any time in preparation for this potential funding opportunity as well as other federal grant opportunities. The registration process can take 2-4 weeks. b. By electronic mail to scot.frew@noaa.gov including signed and scanned copies of all pages requiring original signatures and signed and scanned copies of original support letters. c. If internet access is not available, send one original signed copy by surface mail to Scot Frew, NOAA/NOS International Program Office, 1315 East West Highway, 5th Floor, N/IP, Room 5735, Silver Spring, MD 20910. Applicants should consider the delivery time when submitting their pre- and final applications from international or remote areas. Late applications by any method cannot be accepted under any circumstances. The required Federal financial assistance forms to accompany the final application are SF-424, SF-424A, SF-424B, CD-511, CD-512, and if applicable, CD-346 and/or SF-LLL. These forms can be obtained from the NOAA grants Web site at http://www.rdc.noaa.gov/grants/pdf. If internet access is not available, please contact: Scot Frew, NOAA/NOS International Program Office, 1315 East West Highway, 5th Floor, N/IP, Room 5735, Silver Spring, MD 20910, or telephone 301-713-3078 extension 220; or fax 301-713-4263.

Information Contacts: Technical point of contact for International Coral Reef Conservation is Scot Frew, NOAA/NOS International Program Office, 301-713-3078, extension 220 or e-mail at scot.frew@noaa.gov.

Eligibility: Eligible applicants include all international, governmental (except U.S. federal agencies), and non-governmental organizations. For specific country eligibility per category, please refer to individual category descriptions in Section V. The proposed work must be conducted at a non-U.S. site. Eligible countries are defined as follows: The Wider Caribbean includes the 37 States and territories that border the marine environment of the Gulf of Mexico, the Caribbean Sea, and the areas of the Atlantic Ocean adjacent thereto, and Brazil and Bermuda, but excluding areas under U.S. jurisdiction. The South Pacific Region includes South Pacific Regional Environment Programs Pacific island countries and territories, including the Federated States of Micronesia, Republic of Palau, and the Republic of the Marshall Islands, but excluding U.S. territories and four developed country members. South Asia includes India, Sri Lanka, the Maldives, Pakistan, and Bangladesh. Southeast Asia Region includes Brunei, Cambodia, Indonesia, Laos, Malaysia, Philippines, Singapore, Thailand, and Vietnam. The Western Indian Ocean Region includes Comoros, France (La Reunion), Kenya, Madagascar, Mauritius, Mozambique, Seychelles, the United Republic of Tanzania, and South Africa. The Red Sea Region includes five member countries of the Regional Organization for the Conservation of the Environment of the Red Sea and Gulf of Aden (PERSGA): Djibouti, Egypt, Jordan, the Kingdom of Saudi Arabia, and Yemen.

Cost Sharing Requirements: The International Coral Grant Program is subject to the matching fund requirements described below. As per section 6403(b)(1) of the Coral Reef Conservation Act of 2000, Federal funds for any coral conservation project funded under this Program may not exceed 50 percent of the total cost of the projects. Therefore, any coral conservation project under this program requires a 1:1 match. Match can come from a variety of public and private sources and can include in-kind goods and services such as private boat use and volunteer labor. Federal sources cannot be considered for matching funds, but can be described in the budget narrative to demonstrate additional leverage. Applicants are permitted to combine contributions from multiple non-federal partners in order to meet the 1:1 match recommendation, as long as such contributions are not being used to match any other funds.

Applicants must specify in their proposal the source(s) of match and may be asked to provide letters of commitment to confirm stated match contributions. Applicants whose proposals are selected for funding will be bound by the percentage of cost sharing reflected in the award document signed by the NOAA Grants Officer. Applicants should be prepared to carefully document matching contributions for each project selected to be funded. As per section 6403(b)(2) of the Coral Reef Conservation Act of 2000, the NOAA Administrator may waive all or part of the matching requirement if the Administrator determines that the project meets the following two requirements: 1. No reasonable means are available through which an applicant can meet the matching requirement, and 2. The probable benefit of such project outweighs the public interest in such matching requirement. In the case of a waiver request, the applicant must provide a detailed justification explaining the need for the waiver including attempts to obtain sources of matching funds, how the benefit of the project outweighs the public interest in providing match, and any other extenuating circumstances preventing the availability of match. Match waiver requests including the appropriate justification should be submitted as part of the final application package. Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Mariana Islands. Please Note: eligible applicants choosing to apply 48 U.S.C. 1469a(d) should note the use of the waiver and the total amount of funds requested to be waived in the matching funds section of the respective pre- and final applications.

Intergovernmental Review: Applications under the International Coral Reef Grant program are not subject to Executive Order 12372, Intergovernmental Review of Federal Programs.

National Environmental Satellite Data and Information Service

(1) Research in Primary Vicarious Calibration of Ocean Color Satellite Sensors

Summary Description: The Center for Satellite Applications and Research (STAR) announces the availability of Federal assistance in the research area of ocean color satellite sensor calibration and validation. STAR is committed to improving the vicarious calibration capabilities of a Marine Optical Buoy (MOBY) system located in Hawaii, with an ultimate goal of a continuous, climate-quality time-series of normalized water-leaving spectral radiances across multiple agency missions and ocean color satellite sensors. Research efforts are focused on the reduction of the total uncertainty budget in the determination of the normalized water-leaving radiances from MOBY measurements, improvements in the process used with the MOBY system for validation of ocean color satellite sensor retrievals of water-leaving spectral radiances, and the development of new MOBY system components which would increase measurement integrity. These advances in vicarious calibration capabilities would improve the quality and accuracy of ocean color satellite sensor bio-optical product retrievals. The program priorities for this opportunity support NOAAs mission support goal of: Mission Support—Provide Critical Support for NOAA's Mission.

Funding Availability: Funding availability is anticipated to range from a minimum of $700,000 to a maximum of $1,300,000 per year for no more than three years. Only one applicant will receive an award.

Statutory Authority: Statutory authority for this program is provided under 33 U.S.C. 883d and 33 U.S.C. 1442.

Catalog of Federal Domestic Assistance (CFDA) Number: 11.440, Environmental Sciences, Applications, Data, and Education.

Application Deadline: Proposals must be received by 4 p.m., Eastern Daylight Savings Time on September 28, 2007.

Address for Submitting Proposals: For proposals submitted through http:/www.grants.gov, a date and time receipt indication is included and will be the basis of determining timeliness. Hard copy proposals will be date and time stamped when they are received in the program office. Hard copy proposals should be sent to Marilyn Yuen-Murphy; DOC/NOAA/NESDIS/STAR; 5200 Auth Rd., Rm. 104; Camp Springs, MD 20746.

Information Contacts: Marilyn Yuen-Murphy by telephone (301-763-8102 x159), fax (301-763-8020), or e-mail (Marilyn.Yuen.Murphy@noaa.gov); or Patty Mayo by telephone (301-763-8127 x107), fax (301-763-8108), or e-mail (Patty.Mayo@noaa.gov).

Eligibility: Eligible applicants are U.S. institutions of higher education, other non-profits, commercial organizations, and state, local and Indian tribal governments.

Cost Sharing Requirements: None.

Intergovernmental Review: Applications under this program are not subject to Executive Order 12372, Intergovernmental Review of Federal Programs.

(2) Research in Satellite Data Assimilation for Numerical Weather, Climate, and Environmental Forecast Systems

Summary Description: The NOAA/NASA/DOD Joint Center for Satellite Data Assimilation (JCSDA) announces the availability of Federal assistance for research in the area of Satellite Data Assimilation in Numerical Weather, Climate, and Environmental Forecast Systems. The goal of the JCSDA is to accelerate the use of observations from earth-orbiting satellites in operational numerical prediction models for the purpose of improving weather, ocean mesoscale, and other environmental forecasts, improving seasonal to interannual climate forecasts, and increasing the physical accuracy of climate reanalysis. The advanced instruments of current and planned NOAA, NASA, DOD, and international agency satellite missions will provide large volumes of data on atmospheric, oceanic, and land surface conditions with accuracies and spatial resolutions never before achieved. The JCSDA will strive to ensure that the Nation realizes the maximum benefit of its investment in space as part of an advanced global observing system. Funded proposals will help accelerate the use of satellite data from both operational and experimental spacecraft in operational weather, ocean mesoscale, climate, and environmental prediction environments, improve community radiative transfer models and surface emissivity models, improve characterization of the error covariances related to forecast models, radiative transfer models and satellite observations. The program priorities for this opportunity support NOAA's mission support goal of: Weather and Water—Serve Societys Needs for Weather and Water Information.

Funding Availability: Total funding available for this Notice is anticipated to be approximately $600,000. Individual annual awards in the form of grants or cooperative agreements are expected to range from $50,000 to $150,000, although greater amounts may be awarded. It is anticipated that 4-6 awards will be made.

Statutory Authority: Statutory authorities for this program are provided under 15 U.S.C. 313, 49 U.S.C. 44720(b); 15 U.S.C. 2901.

Catalog of Federal Domestic Assistance (CFDA) Number: 11.440, Environmental Sciences, Applications, Data, and Education.

Application Deadline: Letters of Intent (LOI) must be received by NOAA/NESDIS no later than 5 p.m. eastern time, August 10, 2007. Full proposals must be received no later than 5 p.m. eastern time, October 2, 2007.

Address for Submitting Proposals: Letters of intent must be submitted to the JCSDA, NOAA/NESDIS, Attn: Dr. Fuzhong Weng, 5200 Auth Road, Room 808, Camp Springs, MD 20746. Letters of Intent can be faxed to 301-763-8149, or e-mailed to Fuzhong.Weng@noaa.gov with a copy to Ada.Armstrong@noaa.gov. Full proposals should be submitted through Grants.gov at http://www.grants.gov or those applicants without internet access, hard copy proposals (1 unbound original and 1 copy) may be sent to the above address. No facsimile applications will be accepted.

Information Contacts: Administrative questions: Ms. Ada Armstrong, by phone at 301-763-8172 ext. 188, fax: 301-763-8149, or e-mail: Ada.Armstrong@noaa.gov. Technical questions: Fuzhong Weng (NOAA Program Officer), by phone at 301-763-8172 ext. 123, fax: 301-763-8149, or via e-mail: Fuzhong.Weng@noaa.gov.

Eligibility: Eligible applications can be from institutions of higher education, other non-profits, international organizations, state, local and Indian tribal governments. U.S. Federal agencies or institutions are eligible to receive Federal assistance under this Notice.

Please Note: Before non-NOAA Federal applicants may be funded, they must demonstrate that they have legal authority to receive funds from another Federal agency in excess of their appropriation. The only exception to this is governmental research facilities for awards issued under the authority of 49 U.S.C. 44720(b). Because this announcement is not proposing to procure goods or services from applicants, the Economy Act (31 U.S.C. 1535) is not an appropriate legal basis.

Cost Sharing Requirements: No cost sharing nor matching is required under this program.

Intergovernmental Review: Applications under this program are not subject to Executive Order 12372, “Intergovernmental Review of Federal Programs.”

National Weather Service (NWS)

(1) Collaborative Science, Technology, and Applied Research (CSTAR) Program

Summary Description: The CSTAR Program represents an NOAA/NWS effort to create a cost-effective transition from basic and applied research to operations and services through collaborative research between operational forecasters and academic institutions which have expertise in the environmental sciences. These activities will engage researchers and students in applied research of interest to the operational meteorological community and will improve the accuracy of forecasts and warnings of environmental hazards by applying scientific knowledge and information to operational products and services. The NOAA CSTAR Program is a contributing element of the U.S. Weather Research Program. NOAA's program is designed to complement other agency contributions to that national effort. The CSTAR Program addresses NOAA's Mission Goal 3—Serve society's needs for weather and water information.

Funding Availability: The total funding amount available for proposals is anticipated to be approximately $250,000 per year. However, there is no appropriation of funds at this time and no guarantee that there will be. Individual annual awards in the form of cooperative agreements are limited to a maximum of $125,000 per year for no more than three years. We anticipate making 1-4 awards.

Statutory Authority: Authority for the CSTAR program is provided by the following: 15 U.S.C. 313; 49 U.S.C. 44720(b); 33 U.S.C. 883d; 15 U.S.C. 2904; 15 U.S.C. 2934.

Catalog of Federal Domestic Assistance (CFDA) Number: 11.468, Applied Meteorological Research.

Application Deadline: Proposals must be received by the NWS no later than 5 p.m., EDT, October 19, 2007.

Address for Submitting Proposals: Proposals should be submitted through www.grants.gov. For those organizations without internet access, proposals may be sent to Sam Contorno, CSTAR Program Manager, NOAA/NWS, 1325 East-West Highway, Room 15330, Silver Spring, Maryland 20910.

Information Contacts: Contact Sam Contorno, NOAA/NWS; 1325 East-West Highway, Room 15330; Silver Spring, Maryland 20910-3283, or by phone at 301-713-3557 ext. 150, by fax to 301-713-1253, or via e-mail at samuel.contorno@noaa.gov.

Eligibility: Eligible applicants are institutions of higher education and federally funded educational institutions such as the Naval Postgraduate School. This restriction is needed because the results of the collaboration are to be incorporated in academic processes which ensure academic multidisciplinary peer review as well as Federal review of scientific validity for use in operations.

Cost Sharing Requirements: No cost sharing is required under this program.

Intergovernmental Review: Applications under this program are not subject to Executive Order 12372, Intergovernmental Review of Federal Programs.

Oceanic and Atmospheric Research

(1) Climate Program Office for FY 2008

Summary Description: The NOAA Climate Program represents a contribution to national and international programs designed to improve our ability to observe, understand, predict, and respond to changes in the global environment. The Program builds on NOAAs mission requirements and long-standing capabilities in climate and global change research and prediction. The Program is a key contributing element of the U.S. Climate Change Science Program (CCSP) that is coordinated by the interagency Committee on Environmental and Natural Resources (CENR). NOAAs Climate Program is designed to complement other agencies contributions to that national effort.

Funding Availability: NOAA believes that the Climate Program will benefit significantly from a strong partnership with outside investigators. Please be advised that actual funding levels will depend upon the final FY 2008 budget appropriations. In FY 2006, $6M in first year funding was available for 54 new awards; similar funds and number of awards are anticipated in FY 2008. Total Anticipated Federal Funding for FY 2008 is $6M in first year funding for 40-60 number of awards. Federal Funding for FY 2009 may be used in part to fund some awards submitted under this competition. Current plans assume that 100% of the total resources provided through this announcement will support extramural efforts, particularly those involving the broad academic community. Past or current grantees funded under this announcement are eligible to apply for a new award, which builds on previous activities or areas of research not covered in the previous award. Current grantees should not request supplementary funding for ongoing research through this announcement. We anticipate that the annual cost of most funded projects will fall between $50,000 and $200,000 per year. The exact amount of funds that may be awarded will be determined in pre-award negotiations between the applicant and NOAA representatives. Neither NOAA nor the Department of Commerce is responsible for proposal preparation costs if this program is not funded for whatever reason.

Publication of this announcement does not oblige NOAA to award any specific project or to obligate any available funds. Awards are to be up to three years in length except where noted otherwise by the Program.

Statutory Authority: 49 U.S.C. 44720(b), 33 U.S.C. 883d, 15 U.S.C. 2904, 15 U.S.C. 2931-2934.

Catalog of Federal Domestic Assistance (CFDA) Number: 11.431, Climate and Atmospheric Research.

Application Deadline: Letters of Intent for all Program Elements other than Assessing Meridional Overturning Circulation Variability: Implications for Rapid Climate Change should be received by 5 p.m. Eastern Time, July 23, 2007. Full proposals for all Program Elements other than Assessing Meridional Overturning Circulation Variability: Implications for Rapid Climate Change must be received no later than 5 p.m. Eastern Time, September 24, 2007. Letters of Intent to the Assessing Meridional Overturning Circulation Variability: Implications for Rapid Climate Change Program Element should be received by 5 p.m. Eastern Time October 5, 2007. Full proposals to the Assessing Meridional Overturning Circulation Variability: Implications for Rapid Climate Change Program Element must be received no later than 5 p.m. Eastern Time December 7, 2007.

Anticipated Award Date: May 1, 2008.

Address for Submitting Proposals: To apply for this NOAA federal funding opportunity, please go to http://www.grants.gov, and use the following funding opportunity # OAR-CPO-2008-2000994 to obtain a complete application package. If the applicant does not have Internet access, and would like to request a hard copy of a full application, please contact the CPO Grants Manager, Diane Brown, NOAA Climate Program Office (R/CP1), SSM3, Room 12112, 1315 East-West Highway, Silver Spring, MD 20910, by phone at 301-734-1206, or e-mail: cpogrants@noaa.gov.

Other Submission Requirements: (1) Location for Letter of Intent Submission: LOIs are encouraged to be submitted by e-mail to the identified NOAA program elements Program Manager. If an applicant does not have Internet access, LOI hard copies should be sent to the Program Managers listed with each program in the Program Priorities section.

(2) Location for Application Submission: Applications should be submitted through Grants.gov APPLY (http://www.grants.gov). If an applicant does not have Internet access, please contact the CPO Grants Manager (see below) for hard copy instructions.

Information Contacts: Please visit the CPO Web site for further information http://www.climate.noaa.gov/ or contact the CPO Grants Manager, Diane Brown, NOAA Climate Program Office (R/CP1), SSM3, Room 12112, 1315 East-West Highway, Silver Spring, MD 20910 Phone: 301-734-1206 Fax: 301-713-0158 E-mail: cpogrants@noaa.gov.

Eligibility: Eligible applicants are institutions of higher education, other nonprofits, commercial organizations, international organizations, and state, local and Indian tribal governments. Federal agencies or institutions are not eligible to receive Federal assistance under this notice.

Cost Sharing Requirements: None of the Competitions have Cost Sharing requirements.

Intergovernmental Review: Applications under this program are not subject to Executive Order 12372, Intergovernmental Review of federal programs.

Office of the Under Secretary (USEC)

(1) Environmental Literacy Grants for Spherical Display Systems for Earth System Science-Installations and Content Development

Summary Description: The NOAA Office of Education (OEd) is issuing a request for applications from institutions with interest in developing exhibits featuring spherical display systems showing Earth system science, or developing science modules for these display systems. Spherical display systems are sphere-shaped “screens” onto which global data and other imagery can be shown. Awards will be offered in two priorities, with priority 1 supporting installation of spherical displays systems into public exhibits and priority 2 supporting development and evaluation of Earth system science modules for the spherical display systems. Awards in priority 1 will be made as one-year cooperative agreements and grants. Awards in priority 2 will be made as one or two-year grants. Successful priority 1 projects will support installation of spherical displays systems into public exhibits with an Earth system science theme. Successful priority 2 projects will support partnerships designed to create content focused on Earth system science topics for spherical display systems. The goal of this program is to build environmental literacy among the general public through increased use of NOAA and NOAA-related data and data products in informal education institutions. It is anticipated that recommendations for funding under this announcement will be made by January 30, 2008 and that projects funded under this announcement will have a start date no earlier than April 30, 2008, and possibly as late as March 30, 2009. This program meets NOAA's Mission Goal to provide Critical Support for NOAA's Mission.

Funding Availability: NOAA anticipates the availability of approximately $4,000,000 of funding from FY08 and FY09. Actual funding availability for this program is contigent upon Fiscal Year 2008 and 2009 appropriations. Approximately $500,000 for each fiscal year may be dedicated to awards in priority 1. The total Federal amount that may be requested from NOAA for projects in priority 1 shall not exceed $100,000 including direct and indirect costs. Approximately $1,500,000 for each fiscal year may be dedicated to awards in priority 2. The total Federal amount that may be requested from NOAA for priority 2 shall not exceed $300,000 including direct and indirect costs.

Statutory Authority: Authority for this program is provided by the following: 15 U.S.C. 1540.

Catalog of Federal Domestic Assistance (CFDA) Number: 11.469, Congressionally Identified Awards and Projects.

Application Deadline: The deadline for applications is 5 p.m. EDT on October 30, 2007.

Address for Submitting Proposals: Applications should be submitted through Grants.gov APPLY (http://www.grants.gov). If an applicant does not have Internet access, paper applications will be accepted submitted by express delivery (U.S. mail is not recommended as it can take up to 4 weeks to reach the program office). Paper applications should be delivered to: Carrie McDougall, Dept. of Commerce, NOAA Office of Education, 1401 Constitution Avenue, NW., Room 6863, Washington, DC 20230. See the Office of Education's frequently asked questions site http://www.oesd.noaa.gov/dataviz_faqs.html for more details.

Information Contacts: Please visit the OEd Web site for further information at http://www.oesd.noaa.gov/funding_opps.html or contact Carrie McDougall at (202) 482-0875 or carrie.mcdougall@noaa.gov; or John McLaughlin at (202) 482-2893 or john.mclaughlin@noaa.gov. For those applicants without Internet access, please contact Carrie McDougall via mail at DOC/NOAA Office of Education, 1401 Constitution Avenue, NW., Room 6863, Washington, DC 20230.

Eligibility: Eligible applicants are institutions of higher education, other nonprofits, and state, local and Indian tribal governments in the United States. For profit organizations, foreign institutions, foreign organizations and foreign government agencies are not eligible to apply. For-profit organizations can be project partners. Federal agencies are not eligible to receive Federal assistance under this announcement, but may be project partners. An individual may apply only once per priority as principal investigator (PI) through this funding opportunity. However institutions may submit more than one application and individuals may serve as co-PIs or key personnel on more than one application.

Cost Sharing Requirements: There are no cost-sharing requirements. Applicant resource commitment will, however, be considered in the competitive selection process (see Evaluation Criteria, Project Costs in the Federal Funding Opportunity).

Intergovernmental Review: Applications submitted to this funding opportunity are not subject to Executive Order 12372, Intergovernmental Review of Federal Programs.

Limitation of Liability

Funding for programs listed in this notice is contingent upon the availability of Fiscal Year 2008 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (67 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions.

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR 730 et seq.), implemented by the DOC Bureau of Industry and Security, or the International Traffic I Arms Regulations (ITAR) (22 CFR parts 120-130), implemented by the Department of State, respectively. This includes, but is not limited to, dual-us items, defense articles and any related assistance, services, software or technical data as defined in the EAR and ITAR.

(d) The recipient shall control access to all export-controlled information and technology that it possesses or that comes into its possession in performance of this financial assistance award, to ensure that access is restricted, or licensed, as required by applicable Federal laws, Executive Orders, and/or regulations.

(e) Nothing in the terms of this financial assistance award is intended to change, supersede, or waive and of the requirements of applicable Federal laws, Executive Orders or regulations.

(f) The recipient shall include this clause, including this paragraph (f), in all lower tier transactions (subawards, contracts, and subcontracts) under this financial assistance award that may involve access to export-controlled information technology.

NOAA implementation of Homeland Security Presidential Directive—12

If the performance of a financial assistance award, if approved by NOAA, requires recipients to have physical access to Federal premises for more than 180 days or access to a Federal information system. Any items or services delivered under a financial assistance award shall comply with the Department of Commerce personal identity verification procedures that implement Homeland Security Presidential Directive—12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements. The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424 and 424A, 424B, SF LLL, CD-346, SF 424 Research and Related Family, SF 424 Short Organizational Family, SF 424 Individual Form family has been approved by the Office of Management and Budget (OMB) under the respective control numbers 4040-0004, 0348-0044, 0348-0040, 0348-0046, 0605-0001, 4040-0001, 4040-0003, and 4040-0005. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 26, 2007.
Helen Hurcombe,
Director, Acquisition and Grants Office, National Oceanic and Atmospheric Administration.

[FR Doc. E7-12653 Filed 6-29-07; 8:45 am]

BILLING CODE 3510-12-P